DEPARTMENT OF HOUSING AND URBAN DEVELOPMENT

[Docket No. FR-5375-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7262, Washington, DC 20410; telephone (202) 708-1234; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2009 for suitability for use to assist the homeless. The properties were reviewed using information provided to HUD by Federal landholding agencies regarding unutilized and underutilized buildings and real property controlled by such agencies or by GSA regarding its inventory of excess or surplus Federal property.

In accordance with 24 CFR part 581.3(b) landholding agencies are required to notify HUD by December 31, 2008, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S. Army: Veronica Rines, Headquarters, Department of the Army, Office of the Assistant Chief of Staff for Installation Management, Attn: DAIM-MD, Room 8536, 2511 Jefferson Davis Hwy, Arlington, VA 22202; (703) 601-2545; Corps of Engineers: Scott Whiteford, Director of Real Estate, CEMP-CR, 441 G Street, Washington, DC 20314-1000; (202) 761-5542; U.S. Navy: Albert Johnson, Dept. of Navy, Director of Real Estate, Naval Facilities Engineering Command, Washington Navy Yard, 1330 Patterson Ave., SW., Suite 1000, Washington, DC 20374; (202) 685-9426; U.S. Air Force: Robert Moore, Air Force Real Property Agency, 143 Billy Mitchell Blvd., Suite 1, San Antonio, TX 78226; (210) 925-3047; GSA: Gordon Creed, Office of Property Disposal, GSA, 18th and F Streets, NW., Washington, DC 20405; (202) 501-0084; Dept. of Veterans Affairs: George Szwarcman, Real Property Service, Dept. of Veterans Affairs, Room 555, 811 Vermont Ave., NW., Washington, DC 20420; (202) 565-5398; Dept. of Interior: Michael Wright, Acquisition & Property Management, Dept. of Interior, 1849 C St., NW., MS 2603, Washington, DC 20240; (202) 208-5399; (These are not toll-free numbers).

Dated: February 4, 2010.
Mark R. Johnston,
Deputy Assistant Secretary for Special Needs.

TITLE V PROPERTIES REPORTED IN YEAR 2009, WHICH ARE SUITABLE AND AVAILABLE

Air Force

California

Building

Facility 1

OTHB Radar Site

Tulelake CA 91634

Property Number: 18200830012

Status: Unutilized

Comments: 7920 sq. ft., most recent use—communications

Facility 2

OTHB Radar Site

Tulelake CA 91634

Property Number: 18200830014

Status: Unutilized

Comments: 900 sq. ft., most recent use—veh maint shop

Facilities 3, 4

OTHB Radar Site

Tulelake CA 91634

Property Number: 18200830015

Status: Unutilized

Comments: 4160 sq. ft. each, most recent use—communications

Facility 1

OTHB Radar Site

Christmas Valley CA 97641

Property Number: 18200830016

Status: Unutilized

Comments: 16566 sq. ft., most recent use—communications

Facility 2

OTHB Radar Site

Christmas Valley CA 97641

Property Number: 18200830017

Status: Unutilized

Comments: 900 sq. ft., most recent use—veh maint shop

Facility 4

OTHB Radar Site

Christmas Valley CA 97641

Property Number: 18200830018

Status: Unutilized

Comments: 14,190 sq. ft., most recent use—communications

Facility 6

OTHB Radar Site

Christmas Valley CA 97641

Property Number: 18200830019

Status: Unutilized

Comments: 14,190 sq. ft., most recent use—transmitter bldg.

Land

Parcels L1 & L2

George AFB

Victorville CA 92394

Property Number: 18200820034

Status: Excess

Comments: 157 acres/desert, pump-and-treat system, groundwater restrictions, AF access rights, access restrictions, environmental concerns

Hawaii

Building

Bldg. 849

Bellows AFS

Bellows AFS HI

Property Number: 18200330008

Status: Unutilized

Comments: 462 sq. ft., concrete storage facility, off-site use only

Maine

Building

Bldgs 1, 2, 3, 4

OTH-B Radar Site

Columbia Falls ME

Property Number: 18200840009

Status: Unutilized

Comments: Various sq. ft., most recent use—storage/office

Missouri

Land

Communications Site

County Road 424

Dexter Co: Stoddard MO

Property Number: 18200710001

Status: Unutilized

Comments: 10.63 acres

Outer Marker Annex

Whiteman AFB

Knob Noster MO 65336

Property Number: 18200940001

Status: Unutilized

Comments: 0.75 acres, most recent use—communication

New York

Building

Bldg. 240

Rome Lab

Rome Co: Oneida NY 13441

Property Number: 18200340023

Status: Unutilized

Comments: 39108 sq. ft., presence of asbestos, most recent use—Electronic Research Lab

Bldg. 247

Rome Lab

Rome Co: Oneida NY 13441

Property Number: 18200340024

Status: Unutilized

Comments: 13199 sq. ft., presence of asbestos, most recent use—Electronic Research Lab

Bldg. 248

Rome Lab

Rome Co: Oneida NY 13441

Property Number: 18200340025

Status: Unutilized

Comments: 4000 sq. ft., presence of asbestos, most recent use—Electronic Research Lab

Bldg. 302

Rome Lab

Rome Co: Oneida NY 13441

Property Number: 18200340026

Status: Unutilized

Comments: 10288 sq. ft., presence of asbestos, most recent use—communications facility

North Carolina

Land

0.14 acres

Pope AFB

Pope AFB NC

Property Number: 18200810001

Status: Excess

Comments: Most recent use—middle marker, easement for entry

South Carolina

Building

256 Housing Units

Charleston AFB

South Side Housing

Charleston SC

Property Number: 18200920001

Status: Excess

Comments: various sq. ft., presence of asbestos/lead paint, off-site use only

Texas

Land

0.13 acres

DYAB, Dyess AFB

Tye Co: Taylor TX 79563

Property Number: 18200810002

Status: Unutilized

Comments: Most recent use—middle marker, access limitation

Army

Alaska

Building

Bldg. 00001

Kiana Natl Guard Armory

Kiana AK 99749

Property Number: 21200340075

Status: Excess

Comments: 1200 sq. ft., butler bldg., needs repair, off-site use only

Bldg. 00001

Holy Cross Armory

High Cross AK 99602

Property Number: 21200710051

Status: Excess

Comments: 1200 sq. ft. armory, off-site use only

Bldg. 136

Ft. Richardson

Ft. Richardson AK 99505

Property Number: 21200820147

Status: Excess

Comments: 2383 sq. ft., most recent use—housing, off-site use only

Arizona

Building

Bldg. S-306

Yuma Proving Ground

Yuma Co: Yuma/La Paz AZ 85365-9104

Property Number: 21199420346

Status: Unutilized

Comments: 4103 sq. ft., 2-story, needs major rehab, off-site use only

Bldg. 503, Yuma Proving Ground

Yuma Co: Yuma AZ 85365-9104

Property Number: 21199520073

Status: Underutilized

Comments: 3789 sq. ft., 2-story, major structural changes required to meet floor loading code requirements, presence of asbestos, off-site use only

Bldg. 43002

Fort Huachuca

Cochise AZ 85613-7010

Property Number: 21200440066

Status: Excess

Comments: 23,152 sq. ft., presence of asbestos/lead paint, most recent use—dining, off-site use only

Bldg. 90551

Fort Huachuca

Cochise AZ 85613

Property Number: 21200920001

Status: Excess

Comments: 1270 sq. ft., most recent use—office, off-site use only

California

Building

Bldgs. 18026, 18028

Camp Roberts

Monterey CA 93451-5000

Property Number: 21200130081

Status: Excess

Comments: 2024 sq. ft., concrete, poor condition, off-site use only

Bldg. 00052

Moffett Community Housing

Vernon Ave.

Santa Clara CA 94035

Property Number: 21200930002

Status: Unutilized

Comments: 4530 sq. ft., most recent use—mini mart/meeting rooms, off-site use only

Colorado

Building

Bldgs. 25, 26, 27

Pueblo Chemical Depot

Pueblo CO 81006

Property Number: 21200420178

Status: Unutilized

Comments: 1311 sq. ft., presence of asbestos/lead paint, most recent use—housing, off-site use only

Bldg. 00127

Pueblo Chemical Depot

Pueblo CO 81006

Property Number: 21200420179

Status: Unutilized

Comments: 8067 sq. ft., presence of asbestos, most recent use—barracks, off-site use only

Bldg. 01516

Fort Carson

El Paso CO 80913

Property Number: 21200640116

Status: Unutilized

Comments: 723 sq. ft., needs repair, most recent use—storage, off-site use only

Georgia

Building

Bldg. 322

Fort Benning

Ft. Benning Co: Muscogee GA 31905

Property Number: 21199720156

Status: Unutilized

Comments: 9600 sq. ft., needs rehab, most recent use—admin., off-site use only

Bldg. 2593

Fort Benning

Ft. Benning Co: Muscogee GA 31905

Property Number: 21199720167

Status: Unutilized

Comments: 13644 sq. ft., needs rehab, most recent use—parachute shop, off-site use only

Bldg. 2595

Fort Benning

Ft. Benning Co: Muscogee GA 31905

Property Number: 21199720168

Status: Unutilized

Comments: 3356 sq. ft., needs rehab, most recent use—chapel, off-site use only

Bldg. 4232

Fort Benning

null Co: Muscogee GA 31905

Property Number: 21199830291

Status: Unutilized

Comments: 3720 sq. ft., needs rehab, most recent use—maint. bay, off-site use only

Bldgs. 5974-5978

Fort Benning

Ft. Benning Co: Muscogee GA 31905

Property Number: 21199930135

Status: Unutilized

Comments: 400 sq. ft., most recent use—storage, off-site use only

Bldg. 5993

Fort Benning

Ft. Benning Co: Muscogee GA 31905

Property Number: 21199930136

Status: Unutilized

Comments: 960 sq. ft., most recent use—storage, off-site use only

Bldg. T-1003

Fort Stewart

Hinesville Co: Liberty GA 31514

Property Number: 21200030085

Status: Excess

Comments: 9267 sq. ft., poor condition, most recent use—admin., off-site use only

Bldg. T0130

Fort Stewart

Hinesville Co: Liberty GA 31314-5136

Property Number: 21200230041

Status: Excess

Comments: 10,813 sq. ft., off-site use only

Bldg. T0157

Fort Stewart

Hinesville Co: Liberty GA 31314-5136

Property Number: 21200230042

Status: Excess

Comments: 1440 sq. ft., off-site use only

Bldgs. T291, T292

Fort Stewart

Hinesville Co: Liberty GA 31314-5136

Property Number: 21200230044

Status: Excess

Comments: 5220 sq. ft. each, off-site use only

Bldg. T0295

Fort Stewart

Hinesville Co: Liberty GA 31314-5136

Property Number: 21200230045

Status: Excess

Comments: 5220 sq. ft., off-site use only

Bldg. 4476

Fort Benning

Ft. Benning Co: Chattachoochee GA 31905

Property Number: 21200420034

Status: Excess

Comments: 3148 sq. ft., most recent use—veh. maint. shop, off-site use only

Bldg. 9029

Fort Benning

Ft. Benning Co: Chattachoochee GA 31905

Property Number: 21200420050

Status: Excess

Comments: 7356 sq. ft., most recent use—heat plant bldg., off-site use only

Bldg. T924

Fort Stewart

Ft. Stewart Co: Liberty GA 31314

Property Number: 21200420194

Status: Excess

Comments: 9360 sq. ft., most recent use—warehouse, off-site use only

Bldg. 00924

Fort Stewart

Ft. Stewart Co: Liberty GA 31314

Property Number: 21200510065

Status: Excess

Comments: 9360 sq. ft., most recent use—warehouse, off-site use only

Bldg. 08585

Hunter Army Airfield

Savannah Co: Chatham GA 31409

Property Number: 21200530078

Status: Excess

Comments: 165 sq. ft., most recent use—plant, off-site use only

Bldg. 01150

Hunter Army Airfield

Savannah Co: Chatham GA 31409

Property Number: 21200610037

Status: Excess

Comments: 137 sq. ft., most recent use—flam mat storage, off-site use only

Bldg. 01151

Hunter Army Airfield

Savannah Co: Chatham GA 31409

Property Number: 21200610038

Status: Excess

Comments: 78 sq. ft., most recent use—flam mat storage, off-site use only

Bldg. 01153

Hunter Army Airfield

Savannah Co: Chatham GA 31409

Property Number: 21200610039

Status: Excess

Comments: 211 sq. ft., most recent use—flam mat storage, off-site use only

Bldg. 01530

Fort Stewart

Liberty GA 31314

Property Number: 21200610048

Status: Excess

Comments: 80 sq. ft., most recent use—scale house, off-site use only

Bldg. 08032

Fort Stewart

Liberty GA 31314

Property Number: 21200610051

Status: Excess

Comments: 2592 sq. ft., needs rehab, most recent use—storage/stable, off-site use only

Bldg. 07783

Fort Stewart

Hinesville GA 31314

Property Number: 21200640093

Status: Excess

Comments: 8640 sq. ft., most recent use—maintenance hangar, off-site use only

Bldg. 08061

Fort Stewart

Hinesville GA 31314

Property Number: 21200640094

Status: Excess

Comments: 1296 sq. ft., most recent use—weather station, off-site use only

Bldg. 00100

Hunter Army Airfield

Chatham GA 31409

Property Number: 21200740052

Status: Excess

Comments: 10893 sq. ft., most recent use—battalion hdqts., off-site use only

Bldg. 00129

Hunter Army Airfield

Chatham GA 31409

Property Number: 21200740053

Status: Excess

Comments: 4815 sq. ft., presence of asbestos, most recent use—religious education facility, off-site use only

Bldg. 00145

Hunter Army Airfield

Chatham GA 31409

Property Number: 21200740054

Status: Excess

Comments: 11590 sq. ft., presence of asbestos, most recent use—post chapel, off-site use only

Bldg. 00811

Hunter Army Airfield

Chatham GA 31409

Property Number: 21200740055

Status: Excess

Comments: 42853 sq. ft., most recent use—co hq bldg, off-site use only

Bldg. 00812

Hunter Army Airfield

Chatham GA 31409

Property Number: 21200740056

Status: Excess

Comments: 1080 sq. ft., most recent use—power plant, off-site use only

Bldg. 00850

Hunter Army Airfield

Chatham GA 31409

Property Number: 21200740057

Status: Excess

Comments: 108,287 sq. ft., presence of asbestos, most recent use—aircraft hangar, off-site use only

Bldg. 00860

Hunter Army Airfield

Chatham GA 31409

Property Number: 21200740058

Status: Excess

Comments: 10679 sq. ft., presence of asbestos, most recent use—maint. hangar, off-site use only

Bldg. 01028

Hunter Army Airfield

Chatham GA 31409

Property Number: 21200740059

Status: Excess

Comments: 870 sq. ft., most recent use—storage, off-site use only

Bldg. 00955

Fort Stewart

Hinesville GA 31314

Property Number: 21200740060

Status: Excess

Comments: 120 sq. ft., most recent use—storage, off-site use only

Bldg. 00957

Fort Stewart

Hinesville GA 31314

Property Number: 21200740061

Status: Excess

Comments: 6072 sq. ft., most recent use—recycling facility, off-site use only

Bldg. 00971

Fort Stewart

Hinesville GA 31314

Property Number: 21200740062

Status: Excess

Comments: 4000 sq. ft., most recent use—vehicle maint., off-site use only

Bldg. 01015

Fort Stewart

Hinesville GA 31314

Property Number: 21200740063

Status: Excess

Comments: 7496 sq. ft., most recent use—storage, off-site use only

Bldg. 01209

Fort Stewart

Hinesville GA 31314

Property Number: 21200740064

Status: Excess

Comments: 4786 sq. ft., presence of asbestos, most recent use—vehicle maint., off-site use only

Bldg. 07335

Fort Stewart

Hinesville GA 31314

Property Number: 21200740065

Status: Excess

Comments: 4400 sq. ft., most recent use—chapel, off-site use only

Bldg. 245

Fort Benning

Ft. Benning GA 31905

Property Number: 21200740178

Status: Unutilized

Comments: 1102 sq. ft., most recent use—fld ops, off-site use only

Bldg. 2748

Fort Benning

Ft. Benning GA 31905

Property Number: 21200740180

Status: Unutilized

Comments: 3990 sq. ft., most recent use—office, off-site use only

Bldg. 3866

Fort Benning

Ft. Benning GA 31905

Property Number: 21200740182

Status: Unutilized

Comments: 944 sq. ft., most recent use—office, off-site use only

Bldg. 8682

Fort Benning

Ft. Benning GA 31905

Property Number: 21200740183

Status: Unutilized

Comments: 780 sq. ft., most recent use—admin., off-site use only

Bldg. 10800

Fort Benning

Ft. Benning GA 31905

Property Number: 21200740184

Status: Unutilized

Comments: 16,628 sq. ft., off-site use only

Bldgs. 11302, 11303, 11304

Fort Benning

Ft. Benning GA 31905

Property Number: 21200740185

Status: Unutilized

Comments: Various sq. ft., most recent use—ACS center, off-site use only

Bldg. 0297

Ft. Benning

Chattahoochie GA 31905

Property Number: 21200810045

Status: Excess

Comments: 4839 sq. ft., most recent use—riding stable, off-site use only

Bldg. 3819

Ft. Benning

Chattahoochie GA 31905

Property Number: 21200810046

Status: Excess

Comments: 4241 sq. ft., most recent use—training, off-site use only

Bldg. 10802

Ft. Benning

Chattahoochie GA 31905

Property Number: 21200810047

Status: Excess

Comments: 3182 sq. ft., most recent use—storage, off-site use only

Bldg. 00926

Hunter Army Airfield

Savannah GA 31409

Property Number: 21200840061

Status: Excess

Comments: 1752 sq. ft., most recent use—BN, HQ bldg., off-site use only

Bldg. 01021

Hunter Army Airfield

Savannah GA 31409

Property Number: 21200840062

Status: Excess

Comments: 6855 sq. ft., most recent use—admin., presence of asbestos, off-site use only

Bldg. 07335

Fort Stewart

Hinesville GA 31314

Property Number: 21200840063

Status: Excess

Comments: 4400 sq. ft., most recent use—chapel, off-site use only

Bldg. 07778

Fort Stewart

Hinesville GA 31314

Property Number: 21200840064

Status: Excess

Comments: 1189 sq. ft., most recent use—admin., off-site use only

7 Bldgs.

Fort Stewart

Hinesville GA 31314

Location: 12601, 12602, 12603, 12605, 12606, 12607, 12609

Property Number: 21200840065

Status: Excess

Comments: 2953 sq. ft. each, presence of asbestos, most recent use—barracks, off-site use only

9 Bldgs.

Fort Stewart

Hinesville GA 31314

Location: 12610, 12611, 12612, 12613, 12614, 12615, 12616, 12617, 12618

Property Number: 21200840066

Status: Excess

Comments: 2953 sq. ft., presence of asbestos, most recent use—barracks, off-site use only

Bldg. 12619

Fort Stewart

Hinesville GA 31314

Property Number: 21200840067

Status: Excess

Comments: 3099 sq. ft., presence of asbestos, most recent use—barracks, off-site use only

Bldg. 12682

Fort Stewart

Hinesville GA 31314

Property Number: 21200840068

Status: Excess

Comments: 120 sq. ft., presence of asbestos, most recent use—fuel/POL bldg., off-site use only

Hawaii

Building

P-88

Aliamanu Military Reservation

Honolulu Co: Honolulu HI 96818

Location: Approximately 600 feet from Main Gate on Aliamanu Drive.

Property Number: 21199030324

Status: Unutilized

Comments: 45,216 sq. ft. underground tunnel complex, pres. of asbestos clean-up required of contamination, use of respirator required by those entering property, use limitations

Illinois

Building

Bldg. 54

Rock Island Arsenal

Rock Island Co: Rock Island IL 61299

Property Number: 21199620666

Status: Unutilized

Comments: 2000 sq. ft., most recent use—oil storage, needs repair, off-site use only

Bldg. AR112

Sheridan Reserve

Arlington Heights IL 60052-2475

Property Number: 21200110081

Status: Unutilized

Comments: 1000 sq. ft., off-site use only

Bldgs. 634, 639

Fort Sheridan

Ft. Sheridan IL 60037

Property Number: 21200740186

Status: Unutilized

Comments: 3731/3706 sq. ft., most recent use—classroom/storage, off-site use only

Iowa

Building

Bldg. 00691

Iowa Army Ammo Plant

Middletown Co: Des Moines IA 52638

Property Number: 21200510073

Status: Unutilized

Comments: 2581 sq. ft. residence, presence of lead paint, possible asbestos

Bldg. 00691

Iowa Army Ammo Plant

Middletown Co: Des Moines IA 52638

Property Number: 21200520113

Status: Unutilized

Comments: 2581 sq. ft., presence of asbestos/lead paint, most recent use—residential

Kansas

Building

Bldgs. 7224, 7227, 7612, 7618

Fort Riley

Geary KS 66442

Property Number: 21200930010

Status: Unutilized

Comments: 52,027/41,892 sq. ft., concrete block, most recent use—residential, off-site use only

Kentucky

Building

Bldgs. 02660, 03706

Fort Campbell

Christian KY 42223

Property Number: 21200830003

Status: Underutilized

Comments: 4000 sq. ft. each, off-site use only

Louisiana

Building

Bldg. 8423, Fort Polk

Ft. Polk Co: Vernon Parish LA 71459

Property Number: 21199640528

Status: Underutilized

Comments: 4172 sq. ft., most recent use—barracks

Bldg. T7125

Fort Polk

Ft. Polk LA 71459

Property Number: 21200540088

Status: Unutilized

Comments: 1875 sq. ft., off-site use only

Bldgs. T7163, T8043

Fort Polk

Ft. Polk LA 71459

Property Number: 21200540089

Status: Unutilized

Comments: 4073/1923 sq. ft., off-site use only

Maryland

Building

Bldg. 0459B

Aberdeen Proving Ground

Aberdeen Co: Harford MD 21005-5001

Property Number: 21200120106

Status: Unutilized

Comments: 225 sq. ft., poor condition, most recent use—equipment bldg., off-site use only

Bldg. 00785

Aberdeen Proving Ground

Aberdeen Co: Harford MD 21005-5001

Property Number: 21200120107

Status: Unutilized

Comments: 160 sq. ft., poor condition, most recent use—shelter, off-site use only

Bldg. E5239

Aberdeen Proving Ground

Aberdeen Co: Harford MD 21005-5001

Property Number: 21200120113

Status: Unutilized

Comments: 230 sq. ft., most recent use—storage, off-site use only

Bldg. E5317

Aberdeen Proving Ground

Aberdeen Co: Harford MD 21005-5001

Property Number: 21200120114

Status: Unutilized

Comments: 3158 sq. ft., presence of asbestos/lead paint, most recent use—lab, off-site use only

Bldg. E5637

Aberdeen Proving Ground

Aberdeen Co: Harford MD 21005-5001

Property Number: 21200120115

Status: Unutilized

Comments: 312 sq. ft., presence of asbestos/lead paint, most recent use—lab, off-site use only

Bldg. 219

Ft. George G. Meade

Ft. Meade Co: Anne Arundel MD 20755

Property Number: 21200140078

Status: Unutilized

Comments: 8142 sq. ft., presence of asbestos/lead paint, most recent use—admin., off-site use only

Bldg. 294

Ft. George G. Meade

Ft. Meade Co: Anne Arundel MD 20755

Property Number: 21200140081

Status: Unutilized

Comments: 3148 sq. ft., presence of asbestos/lead paint, most recent use—entomology facility, offsite use only

Bldg. 1007

Ft. George G. Meade

Ft. Meade Co: Anne Arundel MD 20755

Property Number: 21200140085

Status: Unutilized

Comments: 3108 sq. ft., presence of asbestos/lead paint, most recent use—storage, off-site use only

Bldg. 2214

Fort George G. Meade

Fort Meade Co: Anne Arundel MD 20755

Property Number: 21200230054

Status: Unutilized

Comments: 7740 sq. ft., needs rehab, possible asbestos/lead paint, most recent use—storage, offsite use only

Bldg. 00375

Aberdeen Proving Grounds

Aberdeen Co: Harford MD 21005

Property Number: 21200320107

Status: Unutilized

Comments: 64 sq. ft., most recent use—storage, off-site use only

Bldg. 0385A

Aberdeen Proving Grounds

Aberdeen Co: Harford MD 21005

Property Number: 21200320110

Status: Unutilized

Comments: 944 sq. ft., off-site use only

Bldg. 00523

Aberdeen Proving Grounds

Aberdeen Co: Harford MD 21005

Property Number: 21200320113

Status: Unutilized

Comments: 3897 sq. ft., most recent use—paint shop, off-site use only

Bldg. 0700B

Aberdeen Proving Grounds

Aberdeen Co: Harford MD 21005

Property Number: 21200320121

Status: Unutilized

Comments: 505 sq. ft., off-site use only

Bldg. 01113

Aberdeen Proving Grounds

Aberdeen Co: Harford MD 21005

Property Number: 21200320128

Status: Unutilized

Comments: 1012 sq. ft., off-site use only

Bldgs. 01124, 01132

Aberdeen Proving Grounds

Aberdeen Co: Harford MD 21005

Property Number: 21200320129

Status: Unutilized

Comments: 740/2448 sq. ft., most recent use—lab, off-site use only

Bldg. 03558

Aberdeen Proving Grounds

Aberdeen Co: Harford MD 21005

Property Number: 21200320133

Status: Unutilized

Comments: 18,000 sq. ft., most recent use—storage, off-site use only

Bldg. 05262

Aberdeen Proving Grounds

Aberdeen Co: Harford MD 21005

Property Number: 21200320136

Status: Unutilized

Comments: 864 sq. ft., most recent use—storage, off-site use only

Bldg. 05608

Aberdeen Proving Grounds

Aberdeen Co: Harford MD 21005

Property Number: 21200320137

Status: Unutilized

Comments: 1100 sq. ft., most recent use—maint bldg., off-site use only

Bldg. E5645

Aberdeen Proving Grounds

Aberdeen Co: Harford MD 21005

Property Number: 21200320150

Status: Unutilized

Comments: 548 sq. ft., most recent use—storage, off-site use only

Bldg. 00435

Aberdeen Proving Grounds

Aberdeen Co: Harford MD 21005

Property Number: 21200330111

Status: Unutilized

Comments: 1191 sq. ft., needs rehab, most recent use—storage, off-site use only

Bldg. 0449A

Aberdeen Proving Grounds

Aberdeen Co: Harford MD 21005

Property Number: 21200330112

Status: Unutilized

Comments: 143 sq. ft., needs rehab, most recent use—substation switch bldg., off-site use only

Bldg. 0460

Aberdeen Proving Grounds

Aberdeen Co: Harford MD 21005

Property Number: 21200330114

Status: Unutilized

Comments: 1800 sq. ft., needs rehab, most recent use—electrical EQ bldg., off-site use only

Bldg. 00914

Aberdeen Proving Grounds

Aberdeen Co: Harford MD 21005

Property Number: 21200330118

Status: Unutilized

Comments: Needs rehab, most recent use—safety shelter, off-site use only

Bldg. 00915

Aberdeen Proving Grounds

Aberdeen Co: Harford MD 21005

Property Number: 21200330119

Status: Unutilized

Comments: 247 sq. ft., needs rehab, most recent use—storage, off-site use only

Bldg. 01189

Aberdeen Proving Grounds

Aberdeen Co: Harford MD 21005

Property Number: 21200330126

Status: Unutilized

Comments: 800 sq. ft., needs rehab, most recent use—range bldg., off-site use only

Bldg. E1413

Aberdeen Proving Grounds

Aberdeen Co: Harford MD 21005

Property Number: 21200330127

Status: Unutilized

Comments: Needs rehab, most recent use—observation tower, off-site use only

Bldg. E3175

Aberdeen Proving Grounds

Aberdeen Co: Harford MD 21005

Property Number: 21200330134

Status: Unutilized

Comments: 1296 sq. ft., needs rehab, most recent use—hazard bldg., off-site use only

4 Bldgs.

Aberdeen Proving Grounds

Aberdeen Co: Harford MD 21005

Location: E3224, E3228, E3230, E3232, E3234

Property Number: 21200330135

Status: Unutilized

Comments: Sq. ft. varies, needs rehab, most recent use—lab test bldgs., off-site use only

Bldg. E3241

Aberdeen Proving Grounds

Aberdeen Co: Harford MD 21005

Property Number: 21200330136

Status: Unutilized

Comments: 592 sq. ft., needs rehab, most recent use—medical res bldg., off-site use only

Bldg. E3300

Aberdeen Proving Grounds

Aberdeen Co: Harford MD 21005

Property Number: 21200330139

Status: Unutilized

Comments: 44,352 sq. ft., needs rehab, most recent use—chemistry lab, off-site use only

Bldg. E3335

Aberdeen Proving Grounds

Aberdeen Co: Harford MD 21005

Property Number: 21200330144

Status: Unutilized

Comments: 400 sq. ft., needs rehab, most recent use—storage, off-site use only

Bldg. E3360, E3362, E3464

Aberdeen Proving Grounds

Aberdeen Co: Harford MD 21005

Property Number: 21200330145

Status: Unutilized

Comments: 3588/236 sq. ft., needs rehab, most recent use—storage, off-site use only

Bldg. E3542

Aberdeen Proving Grounds

Aberdeen Co: Harford MD 21005

Property Number: 21200330148

Status: Unutilized

Comments: 1146 sq. ft., needs rehab, most recent use—lab test bldg., off-site use only

Bldg. E4420

Aberdeen Proving Grounds

Aberdeen Co: Harford MD 21005

Property Number: 21200330151

Status: Unutilized

Comments: 14,997 sq. ft., needs rehab, most recent use—police bldg., off-site use only

4 Bldgs.

Aberdeen Proving Grounds

Aberdeen Co: Harford MD 21005

Location: E5005, E5049, E5050, E5051

Property Number: 21200330154

Status: Unutilized

Comments: Sq. ft. varies, needs rehab, most recent use—storage, off-site use only

Bldg. E5068

Aberdeen Proving Grounds

Aberdeen Co: Harford MD 21005

Property Number: 21200330155

Status: Unutilized

Comments: 1200 sq. ft., needs rehab, most recent use—fire station, off-site use only

Bldg. 05448, 05449

Aberdeen Proving Grounds

Aberdeen Co: Harford MD 21005

Property Number: 21200330161

Status: Unutilized

Comments: 6431 sq. ft., needs rehab, most recent use—enlisted UHP, off-site use only

Bldg. 05450

Aberdeen Proving Grounds

Aberdeen Co: Harford MD 21005

Property Number: 21200330162

Status: Unutilized

Comments: 2730 sq. ft., needs rehab, most recent use—admin., off-site use only

Bldg. 05451, 05455

Aberdeen Proving Grounds

Aberdeen Co: Harford MD 21005

Property Number: 21200330163

Status: Unutilized

Comments: 2730/6431 sq. ft., needs rehab, most recent use—storage, off-site use only

Bldg. 05453

Aberdeen Proving Grounds

Aberdeen Co: Harford MD 21005

Property Number: 21200330164

Status: Unutilized

Comments: 6431 sq. ft., needs rehab, most recent use—admin., off-site use only

Bldg. E5609

Aberdeen Proving Grounds

Aberdeen Co: Harford MD 21005

Property Number: 21200330167

Status: Unutilized

Comments: 2053 sq. ft., needs rehab, most recent use—storage, off-site use only

Bldg. E5611

Aberdeen Proving Grounds

Aberdeen Co: Harford MD 21005

Property Number: 21200330168

Status: Unutilized

Comments: 11,242 sq. ft., needs rehab, most recent use—hazard bldg., off-site use only

Bldg. E5634

Aberdeen Proving Grounds

Aberdeen Co: Harford MD 21005

Property Number: 21200330169

Status: Unutilized

Comments: 200 sq. ft., needs rehab, most recent use—flammable storage, off-site use only

Bldg. E5654

Aberdeen Proving Grounds

Aberdeen Co: Harford MD 21005

Property Number: 21200330171

Status: Unutilized

Comments: 21,532 sq. ft., needs rehab, most recent use—storage, off-site use only

Bldg. E5942

Aberdeen Proving Grounds

Aberdeen Co: Harford MD 21005

Property Number: 21200330176

Status: Unutilized

Comments: 2147 sq. ft., needs rehab, most recent use—igloo storage, off-site use only

Bldg. E5952, E5953

Aberdeen Proving Grounds

Aberdeen Co: Harford MD 21005

Property Number: 21200330177

Status: Unutilized

Comments: 100/24 sq. ft., needs rehab, most recent use—compressed air bldg., off-site use only

Bldg. E7401, E7402

Aberdeen Proving Grounds

Aberdeen Co: Harford MD 21005

Property Number: 21200330178

Status: Unutilized

Comments: 256/440 sq. ft., needs rehab, most recent use—storage, off-site use only

Bldg. E7407, E7408

Aberdeen Proving Grounds

Aberdeen Co: Harford MD 21005

Property Number: 21200330179

Status: Unutilized

Comments: 1078/762 sq. ft., needs rehab, most recent use—decon facility, off-site use only

Bldg. 3070A

Aberdeen Proving Ground

Harford MD 21005

Property Number: 21200420055

Status: Unutilized

Comments: 2299 sq. ft., most recent use—heat plant, off-site use only

Bldg. E5026

Aberdeen Proving Ground

Harford MD 21005

Property Number: 21200420056

Status: Unutilized

Comments: 20,536 sq. ft., most recent use—storage, off-site use only

Bldg. 05261

Aberdeen Proving Ground

Harford MD 21005

Property Number: 21200420057

Status: Unutilized

Comments: 10,067 sq. ft., most recent use—maintenance, off-site use only

Bldg. E5876

Aberdeen Proving Grounds

Aberdeen Co: Harford MD 21005

Property Number: 21200440073

Status: Unutilized

Comments: 1192 sq. ft., needs rehab, most recent use—storage, off-site use only

Bldg. 00688

Aberdeen Proving Ground

Aberdeen Co: Harford MD 21005

Property Number: 21200530080

Status: Unutilized

Comments: 24,192 sq. ft., most recent use—ammo, off-site use only

Bldg. 04925

Aberdeen Proving Ground

Aberdeen Co: Harford MD 21005

Property Number: 21200540091

Status: Unutilized

Comments: 1326 sq. ft., off-site use only

Bldg. 00255

Aberdeen Proving Ground

Harford MD 21005

Property Number: 21200720052

Status: Unutilized

Comments: 64 sq. ft., most recent use—storage, off-site use only

Bldg. 00638

Aberdeen Proving Ground

Harford MD 21005

Property Number: 21200720053

Status: Unutilized

Comments: 4295 sq. ft., most recent use—storage, off-site use only

Bldg. 00721

Aberdeen Proving Ground

Harford MD

Property Number: 21200720054

Status: Unutilized

Comments: 135 sq. ft., most recent use—storage, off-site use only

Bldg. 00936, 00937

Aberdeen Proving Ground

Harford MD 21005

Property Number: 21200720055

Status: Unutilized

Comments: 2000 sq. ft., most recent use—storage, off-site use only

Bldg. E1410, E1434

Aberdeen Proving Ground

Harford MD 21005

Property Number: 21200720056

Status: Unutilized

Comments: 2276/3106 sq. ft., most recent use—laboratory, off-site use only

Bldg. 03240

Aberdeen Proving Ground

Harford MD 21005

Property Number: 21200720057

Status: Unutilized

Comments: 10,049 sq. ft., most recent use—office, off-site use only

Bldg. E3834

Aberdeen Proving Ground

Harford MD 21005

Property Number: 21200720058

Status: Unutilized

Comments: 72 sq. ft., most recent use—office, off-site use only

Bldg. E4465, E4470, E4480

Aberdeen Proving Ground

Harford MD 21005

Property Number: 21200720059

Status: Unutilized

Comments: 17658/16876/17655 sq. ft., most recent use—office, off-site use only

Bldg. E5137, 05219

Aberdeen Proving Ground

Harford MD 21005

Property Number: 21200720060

Status: Unutilized

Comments: 3700/8175 sq. ft., most recent use—office, off-site use only

Bldg. E5236

Aberdeen Proving Ground

Harford MD 21005

Property Number: 21200720061

Status: Unutilized

Comments: 10,325 sq. ft., most recent use—storage, off-site use only

Bldg. E5282

Aberdeen Proving Ground

Harford MD 21005

Property Number: 21200720062

Status: Unutilized

Comments: 4820 sq. ft., most recent use—hazard bldg., off-site use only

Bldg. E5736, E5846, E5926

Aberdeen Proving Ground

Harford MD 21005

Property Number: 21200720063

Status: Unutilized

Comments: 1069/4171/11279 sq. ft., most recent use—storage, off-site use only

Bldg. E6890

Aberdeen Proving Ground

Harford MD 21005

Property Number: 21200720064

Status: Unutilized

Comments: 1 sq. ft., most recent use—impact area, off-site use only

Bldg. 00310

Aberdeen Proving Ground

Harford MD 21005

Property Number: 21200820077

Status: Unutilized

Comments: 56516 sq. ft., most recent use—admin., off-site use only

Bldg. 00315

Aberdeen Proving Ground

Harford MD

Property Number: 21200820078

Status: Unutilized

Comments: 74396 sq. ft., most recent use—mach shop, off-site use only

Bldg. 00338

Aberdeen Proving Ground

Harford MD

Property Number: 21200820079

Status: Unutilized

Comments: 45443 sq. ft., most recent use—gnd tran eqp, off-site use only

Bldg. 00360

Aberdeen Proving Ground

Harford MD

Property Number: 21200820080

Status: Unutilized

Comments: 15287 sq. ft., most recent use—general inst., off-site use only

Bldg. 00445

Aberdeen Proving Ground

Harford MD

Property Number: 21200820081

Status: Unutilized

Comments: 6367 sq. ft., most recent use—lab, off-site use only

Bldg. 00851

Aberdeen Proving Ground

Harford MD

Property Number: 21200820082

Status: Unutilized

Comments: 694 sq. ft., most recent use—range bldg., off-site use only

E1043

Aberdeen Proving Ground

Harford MD

Property Number: 21200820083

Status: Unutilized

Comments: 5200 sq. ft., most recent use—lab, off-site use only

Bldg. 01089

Aberdeen Proving Ground

Harford MD

Property Number: 21200820084

Status: Unutilized

Comments: 12369 sq. ft., most recent use—veh maint, off-site use only

Bldg. 01091

Aberdeen Proving Ground

Harford MD

Property Number: 21200820085

Status: Unutilized

Comments: 2201 sq. ft., most recent use—storage, off-site use only

Bldg. E1386

Aberdeen Proving Ground

Harford MD

Property Number: 21200820086

Status: Unutilized

Comments: 251 sq. ft., most recent use—eng/mnt, off-site use only

5 Bldgs.

Aberdeen Proving Ground

Harford MD

Location: E1440, E1441, E1443, E1445, E1455

Property Number: 21200820087

Status: Unutilized

Comments: 112 sq. ft., most recent use—safety shelter, off-site use only

Bldg. E1467, E1485

Aberdeen Proving Ground

Harford MD

Property Number: 21200820088

Status: Unutilized

Comments: 160/800 sq. ft., most recent use—storage, off-site use only

Bldg. E1521

Aberdeen Proving Ground

Harford MD

Property Number: 21200820090

Status: Unutilized

Comments: 1200 sq. ft., most recent use—overhead protection, off-site use only

Bldg. E1570

Aberdeen Proving Ground

Harford MD

Property Number: 21200820091

Status: Unutilized

Comments: 47027 sq. ft., most recent use—office, off-site use only

Bldg. E1572

Aberdeen Proving Ground

Harford MD

Property Number: 21200820092

Status: Unutilized

Comments: 1402 sq. ft., most recent use—maint., off-site use only

4 Bldgs.

Aberdeen Proving Ground

Harford MD

Location: E1645, E1675, E1677, E1930

Property Number: 21200820093

Status: Unutilized

Comments: Various sq. ft., most recent use—office, off-site use only

Bldg. E2160, E2184, E2196

Aberdeen Proving Ground

Harford MD

Property Number: 21200820094

Status: Unutilized

Comments: 12440/13816 sq. ft., most recent use—storage, off-site use only

Bldg. E2174

Aberdeen Proving Ground

Harford MD

Property Number: 21200820095

Status: Unutilized

Comments: 132 sq. ft., off-site use only

Bldg. 02208, 02209

Aberdeen Proving Ground

Harford MD

Property Number: 21200820096

Status: Unutilized

Comments: 11566/18085 sq. ft., most recent use—lodging, off-site use only

Bldg. 02353

Aberdeen Proving Ground

Harford MD

Property Number: 21200820097

Status: Unutilized

Comments: 19252 sq. ft., most recent use—veh maint, off-site use only

Bldg. 02482, 02484

Aberdeen Proving Ground

Harford MD

Property Number: 21200820098

Status: Unutilized

Comments: 8359 sq. ft., most recent use—gen purp, off-site use only

Bldg. 02483

Aberdeen Proving Ground

Harford MD

Property Number: 21200820099

Status: Unutilized

Comments: 1360 sq. ft., most recent use—heat plt, off-site use only

Bldg. 02504, 02505

Aberdeen Proving Ground

Harford MD

Property Number: 21200820100

Status: Unutilized

Comments: 11720/17434 sq. ft., most recent use—lodging, off-site use only

Bldg. 02831, E3488

Aberdeen Proving Ground

Harford MD

Property Number: 21200820101

Status: Unutilized

Comments: 576/64 sq. ft., most recent use—access cnt fac, off-site use only

Bldg. 2831A

Aberdeen Proving Ground

Harford MD

Property Number: 21200820102

Status: Unutilized

Comments: 1200 sq. ft., most recent use—overhead protection, off-site use only

Bldg. 03320

Aberdeen Proving Ground

Harford MD

Property Number: 21200820103

Status: Unutilized

Comments: 10600 sq. ft., most recent use—admin, off-site use only

Bldg. E3466

Aberdeen Proving Ground

Aberdeen MD

Property Number: 21200820104

Status: Unutilized

Comments: 236 sq. ft., most recent use—protective barrier, off-site use only

4 Bldgs.

Aberdeen Proving Ground

Harford MD

Location: E3510, E3570, E3640, E3832

Property Number: 21200820105

Status: Unutilized

Comments: Various sq. ft., most recent use—lab, off-site use only

Bldg. E3544

Aberdeen Proving Ground

Harford MD

Property Number: 21200820106

Status: Unutilized

Comments: 5400 sq. ft., most recent use—ind waste, off-site use only

Bldg. E3561, 03751

Aberdeen Proving Ground

Harford MD

Property Number: 21200820107

Status: Unutilized

Comments: 64/189 sq. ft., most recent use—access cnt fac, off-site use only

Bldg. 03754

Aberdeen Proving Ground

Harford MD

Property Number: 21200820108

Status: Unutilized

Comments: 324 sq. ft., most recent use—classroom, off-site use only

Bldg. 3823A

Aberdeen Proving Ground

Harford MD

Property Number: 21200820109

Status: Unutilized

Comments: 113 sq. ft., most recent use—shed, off-site use only

Bldg. E3948

Aberdeen Proving Ground

Harford MD

Property Number: 21200820110

Status: Unutilized

Comments: 3420 sq. ft., most recent use—emp chg fac, off-site use only

4 Bldgs.

Aberdeen Proving Ground

Harford MD

Location: E5057, E5058, E5246, 05258

Property Number: 21200820111

Status: Unutilized

Comments: Various sq. ft., most recent use—storage, off-site use only

Bldg. E5106, 05256

Aberdeen Proving Ground

Harford MD

Property Number: 21200820112

Status: Unutilized

Comments: 18621/8720 sq. ft., most recent use—office, off-site use only

Bldg. E5126

Aberdeen Proving Ground

Harford MD

Property Number: 21200820113

Status: Unutilized

Comments: 17664 sq. ft., most recent use—heat plt, off-site use only

Bldg. E5128

Aberdeen Proving Ground

Harford MD

Property Number: 21200820114

Status: Unutilized

Comments: 3750 sq. ft., most recent use—substation, off-site use only

Bldg. E5188

Aberdeen Proving Ground

Harford MD

Property Number: 21200820115

Status: Unutilized

Comments: 22790 sq. ft., most recent use—lab, off-site use only

Bldg. E5179

Aberdeen Proving Ground

Harford MD

Property Number: 21200820116

Status: Unutilized

Comments: 47335 sq. ft., most recent use—info sys, off-site use only

Bldg. E5190

Aberdeen Proving Ground

Harford MD

Property Number: 21200820117

Status: Unutilized

Comments: 874 sq. ft., most recent use—storage, off-site use only

Bldg. 05223

Aberdeen Proving Ground

Harford MD

Property Number: 21200820118

Status: Unutilized

Comments: 6854 sq. ft., most recent use—gen rep inst, off-site use only

Bldg. 05259, 05260

Aberdeen Proving Ground

Harford MD

Property Number: 21200820119

Status: Unutilized

Comments: 10067 sq. ft., most recent use—maint, off-site use only

Bldg. 05263, 05264

Aberdeen Proving Ground

Harford MD

Property Number: 21200820120

Status: Unutilized

Comments: 200 sq. ft., most recent use—org space, off-site use only

5 Bldgs.

Aberdeen Proving Ground

Harford MD

Location: 05267, E5294, E5327, E5441, E5485

Property Number: 21200820121

Status: Unutilized

Comments: Various sq. ft., most recent use—storage, off-site use only

Bldg. E5292

Aberdeen Proving Ground

Harford MD

Property Number: 21200820122

Status: Unutilized

Comments: 1166 sq. ft., most recent use—comp rep inst, off-site use only

Bldg. E5380

Aberdeen Proving Ground

Harford MD

Property Number: 21200820123

Status: Unutilized

Comments: 9176 sq. ft., most recent use—lab, off-site use only

Bldg. E5452

Aberdeen Proving Ground

Harford MD

Property Number: 21200820124

Status: Unutilized

Comments: 9623 sq. ft., off-site use only

Bldg. 05654

Aberdeen Proving Ground

Harford MD

Property Number: 21200820125

Status: Unutilized

Comments: 38 sq. ft., most recent use—shed, off-site use only

Bldg. 05656

Aberdeen Proving Ground

Harford MD

Property Number: 21200820126

Status: Unutilized

Comments: 2240 sq. ft., most recent use—overhead protection, off-site use only

5 Bldgs.

Aberdeen Proving Ground

Harford MD

Location: E5730, E5738, E5915, E5928, E6875

Property Number: 21200820127

Status: Unutilized

Comments: Various sq. ft., most recent use—storage, off-site use only

Bldg. E5770

Aberdeen Proving Ground

Harford MD

Property Number: 21200820128

Status: Unutilized

Comments: 174 sq. ft., most recent use—cent wash, off-site use only

Bldg. E5840

Aberdeen Proving Ground

Harford MD

Property Number: 21200820129

Status: Unutilized

Comments: 14200 sq. ft., most recent use—lab, off-site use only

Bldg. E5946

Aberdeen Proving Ground

Harford MD

Property Number: 21200820130

Status: Unutilized

Comments: 2147 sq. ft., most recent use—igloo str, off-site use only

Bldg. E6872

Aberdeen Proving Ground

Harford MD

Property Number: 21200820131

Status: Unutilized

Comments: 1380 sq. ft., most recent use—dispatch, off-site use only

Bldg. E7331, E7332, E7333

Aberdeen Proving Ground

Harford MD

Property Number: 21200820132

Status: Unutilized

Comments: Most recent use—protective barrier, off-site use only

Bldg. E7821

Aberdeen Proving Ground

Harford MD

Property Number: 21200820133

Status: Unutilized

Comments: 3500 sq. ft., most recent use—xmitter bldg, off-site use only

Bldg. 02483

Aberdeen Proving Ground

Harford MD 21005

Property Number: 21200920025

Status: Unutilized

Comments: 1360 sq. ft., most recent use—heat plt bldg., off-site use only

Bldg. 03320

Aberdeen Proving Ground

Harford MD 21005

Property Number: 21200920026

Status: Unutilized

Comments: 10,600 sq. ft., most recent use—admin., off-site use only

Land

2 acres

Fort Meade

Odenton Rd/Rt 175

Ft. Meade MD 20755

Property Number: 21200640095

Status: Unutilized

Comments: Light industrial

16 acres

Fort Meade

Rt 198/Airport Road

Ft. Meade MD 20755

Property Number: 21200640096

Status: Unutilized

Comments: Light industrial

Missouri

Building

Bldg. T1497

Fort Leonard Wood

Ft. Leonard Wood Co: Pulaski MO 65473-5000

Property Number: 21199420441

Status: Underutilized

Comments: 4720 sq. ft., 2-story, presence of lead base paint, most recent use—admin/gen. purpose, off-site use only

Bldg. T2139

Fort Leonard Wood

Ft. Leonard Wood Co: Pulaski MO 65473-5000

Property Number: 21199420446

Status: Underutilized

Comments: 3663 sq. ft., 1-story, presence of lead base paint, most recent use—admin/gen. purpose, off-site use only

Bldg. T2385

Fort Leonard Wood

Ft. Leonard Wood Co: Pulaski MO 65473

Property Number: 21199510115

Status: Excess

Comments: 3158 sq. ft., 1-story, wood frame, most recent use—admin., to be vacated 8/95, off-site use only

Bldg. 2167

Fort Leonard Wood

Ft. Leonard Wood Co: Pulaski MO 65473-5000

Property Number: 21199820179

Status: Unutilized

Comments: 1296 sq. ft., presence of asbestos/lead paint, most recent use—admin., off-site use only

Bldg. 2192, 2196, 2198

Fort Leonard Wood

Ft. Leonard Wood Co: Pulaski MO 65473-5000

Property Number: 21199820183

Status: Unutilized

Comments: 4720 sq. ft., presence of asbestos/lead paint, most recent use—barracks, off-site use only

12 Bldgs.

Fort Leonard Wood

Ft. Leonard Wood Co: Pulaski MO 65743-8944

Location: 07036, 07050, 07054, 07102, 07400, 07401, 08245, 08249 08251, 08255, 08257, 08261.

Property Number: 21200410110

Status: Unutilized

Comments: 7152 sq. ft., 6 plex housing quarters, potential contaminants, off-site use only

6 Bldgs.

Fort Leonard Wood

Ft. Leonard Wood Co: Pulaski MO 65743-8944

Location: 07044, 07106, 07107, 08260, 08281, 08300

Property Number: 21200410111

Status: Unutilized

Comments: 9520 sq. ft., 8 plex housing quarters, potential contaminants, off-site use only

15 Bldgs.

Fort Leonard Wood

Ft. Leonard Wood Co: Pulaski MO 65743-8944

Location: 08242, 08243, 08246-08248, 08250, 08252-08254, 08256, 08258-08259, 08262-08263, 08265

Property Number: 21200410112

Status: Unutilized

Comments: 4784 sq. ft., 4 plex housing quarters, potential contaminants, off-site use only

Bldg. 08283, 08285

Fort Leonard Wood

Ft. Leonard Wood Co: Pulaski MO 65743-8944

Property Number: 21200410113

Status: Unutilized

Comments: 2240 sq. ft, 2 plex housing quarters, potential contaminants, off-site use only

15 Bldgs.

Fort Leonard Wood

Ft. Leonard Wood Co: Pulaski MO 65743-0827

Location: 08267, 08269, 08271, 08273, 08275, 08277, 08279, 08290, 08296, 08301

Property Number: 21200410114

Status: Unutilized

Comments: 4784 sq. ft., 4 plex housing quarters, potential contaminants, off-site use only

Bldg. 09432

Fort Leonard Wood

Ft. Leonard Wood Co: Pulaski MO 65743-8944

Property Number: 21200410115

Status: Unutilized

Comments: 8724 sq. ft., 6-plex housing quarters, potential contaminants, off-site use only

Bldg. 5006 and 5013

Fort Leonard Wood

Ft. Leonard Wood Co: Pulaski MO 65743-8944

Property Number: 21200430064

Status: Unutilized

Comments: 192 sq. ft., needs repair, most recent use—generator bldg., off-site use only

Bldg. 13210, 13710

Fort Leonard Wood

Ft. Leonard Wood Co: Pulaski MO 65743-8944

Property Number: 21200430065

Status: Unutilized

Comments: 144 sq. ft. each, needs repair, most recent use—communication, off-site use only

Montana

Building

Bldg. 00405

Fort Harrison

Ft. Harrison Co: Lewis/Clark MT 59636

Property Number: 21200130099

Status: Unutilized

Comments: 3467 sq. ft., most recent use—storage, security limitations

Bldg. T0066

Fort Harrison

Ft. Harrison Co: Lewis/Clark MT 59636

Property Number: 21200130100

Status: Unutilized

Comments: 528 sq. ft., needs rehab, presence of asbestos, security limitations

Bldg. 00001

Sheridan Hall USARC

Helena MT 59601

Property Number: 21200540093

Status: Unutilized

Comments: 19,321 sq. ft., most recent use—Reserve Center

Bldg. 00003

Sheridan Hall USARC

Helena MT 59601

Property Number: 21200540094

Status: Unutilized

Comments: 1950 sq. ft., most recent use—maintenance/storage

New Jersey

Building

Bldg. 732

Armament R Engineering Center

Picatinny Arsenal Co: Morris NJ 07806-5000

Property Number: 21199740315

Status: Unutilized

Comments: 9077 sq. ft., needs rehab, most recent use—storage, off-site use only

Bldg. 816C

Armament R, D, Center

Picatinny Arsenal Co: Morris NJ 07806-5000

Property Number: 21200130103

Status: Unutilized

Comments: 144 sq. ft., most recent use—storage, off-site use only

5 Bldgs.

Picatinny Arsenal

Dover NJ 07806

Location: 3710, 3711, 3712, 3713, 3714

Property Number: 21200940032

Status: Unutilized

Comments: Residential trailers, needs rehab, off-site use only

New Mexico

Building

Bldg. 34198

White Sands Missile Range

Dona Ana NM 88002

Property Number: 21200230062

Status: Excess

Comments: 107 sq. ft., most recent use—security, off-site use only

New York

Building

Bldg. 1227

U.S. Military Academy

Highlands Co: Orange NY 10996-1592

Property Number: 21200440074

Status: Unutilized

Comments: 3800 sq. ft., needs repair, possible asbestos/lead paint, most recent use—maintenance, off-site use only

Bldg. 2218

Stewart Newburg USARC

New Windsor Co: Orange NY 12553-9000

Property Number: 21200510067

Status: Unutilized

Comments: 32,000 sq. ft., poor condition, requires major repairs, most recent use—storage/services

7 Bldgs.

Stewart Newburg USARC

New Windsor Co: Orange NY 12553-9000

Location: 2122, 2124, 2126, 2128, 2106, 2108, 2104

Property Number: 21200510068

Status: Unutilized

Comments: Sq. ft. varies, poor condition, needs major repairs, most recent use—storage/services

Bldg. 1230

U.S. Army Garrison

Orange NY 10996

Property Number: 21200940014

Status: Unutilized

Comments: 4538 sq. ft., possible asbestos/lead paint, most recent use—clubhouse, off-site use only

Ohio

Land

Land

Defense Supply Center

Columbus Co: Franklin OH 43216-5000

Property Number: 21200340094

Status: Excess

Comments: 11 acres, railroad access

Oklahoma

Building

Bldg. T-838, Fort Sill

838 Macomb Road

Lawton Co: Comanche OK 73503-5100

Property Number: 21199220609

Status: Unutilized

Comments: 151 sq. ft., wood frame, 1 story, off-site removal only, most recent use—vet facility (quarantine stable)

Bldg. T-954, Fort Sill

954 Quinette Road

Lawton Co: Comanche OK 73503-5100

Property Number: 21199240659

Status: Unutilized

Comments: 3571 sq. ft., 1 story wood frame, needs rehab, off-site use only, most recent use—motor repair shop

Bldg. T-3325, Fort Sill

3325 Naylor Road

Lawton Co: Comanche OK 73503-5100

Property Number: 21199240681

Status: Unutilized

Comments: 8832 sq. ft., 1 story wood frame, needs rehab, off-site use only, most recent use—warehouse

Bldg. T-4226

Fort Sill

Lawton Co: Comanche OK 73503

Property Number: 21199440384

Status: Unutilized

Comments: 114 sq. ft., 1-story wood frame, possible asbestos and lead paint, most recent use—storage, off-site use only

Bldg. P-1015, Fort Sill

Lawton Co: Comanche OK 73501-5100

Property Number: 21199520197

Status: Unutilized

Comments: 15402 sq. ft., 1-story, most recent use—storage, off-site use only

Bldg. P-366, Fort Sill

Lawton Co: Comanche OK 73503

Property Number: 21199610740

Status: Unutilized

Comments: 482 sq. ft., possible asbestos, most recent use—storage, off-site use only

Building P-5042

Fort Sill

Lawton Co: Comanche OK 73503-5100

Property Number: 21199710066

Status: Unutilized

Comments: 119 sq. ft., possible asbestos and lead paint, most recent use—heatplant, off-site use only

4 Buildings

Fort Sill

Lawton Co: Comanche OK 73503-5100

Location: T-6465, T-6466, T-6467, T-6468

Property Number: 21199710086

Status: Unutilized

Comments: Various sq. ft., possible asbestos and lead paint, most recent use—range support, off-site use only

Bldg. T-810

Fort Sill

Lawton Co: Comanche OK 73503-5100

Property Number: 21199730350

Status: Unutilized

Comments: 7205 sq. ft., possible asbestos/lead paint, most recent use—hay storage, off-site use only

Bldg. T-837, T-839

Fort Sill

Lawton Co: Comanche OK 73503-5100

Property Number: 21199730351

Status: Unutilized

Comments: Approx. 100 sq. ft. each, possible asbestos/lead paint, most recent use—storage, off-site use only

Bldg. P-934

Fort Sill

Lawton Co: Comanche OK 73503-5100

Property Number: 21199730353

Status: Unutilized

Comments: 402 sq. ft., possible asbestos/lead paint, most recent use—storage, off-site use only

Bldg. T-1468, T-1469

Fort Sill

Lawton Co: Comanche OK 73503-5100

Property Number: 21199730357

Status: Unutilized

Comments: 114 sq. ft., possible asbestos/lead paint, most recent use—storage, off-site use only

Bldg. T-1470

Fort Sill

Lawton Co: Comanche OK 73503-5100

Property Number: 21199730358

Status: Unutilized

Comments: 3120 sq. ft., possible asbestos/lead paint, most recent use—storage, off-site use only

Bldg. T-1954, T-2022

Fort Sill

Lawton Co: Comanche OK 73503-5100

Property Number: 21199730362

Status: Unutilized

Comments: Approx. 100 sq. ft. each, possible asbestos/lead paint, most recent use—storage, off-site use only

Bldg. T-2184

Fort Sill

Lawton Co: Comanche OK 73503-5100

Property Number: 21199730364

Status: Unutilized

Comments: 454 sq. ft., possible asbestos/lead paint, most recent use—storage, off-site use only

Bldg. T-2186, T-2188, T-2189

Fort Sill

Lawton Co: Comanche OK 73503-5100

Property Number: 21199730366

Status: Unutilized

Comments: 1656-3583 sq. ft., possible asbestos/lead paint, most recent use—vehicle maint. shop, off-site use only

Bldg. T-2187

Fort Sill

Lawton Co: Comanche OK 73503-5100

Property Number: 21199730367

Status: Unutilized

Comments: 1673 sq. ft., possible asbestos/lead paint, most recent use—storage, off-site use only

Bldg. T-2291 thru T-2296

Fort Sill

Lawton Co: Comanche OK 73503-5100

Property Number: 21199730372

Status: Unutilized

Comments: 400 sq. ft. each, possible asbestos/lead paint, most recent use—storage, off-site use only

Bldg. T-3001, T-3006

Fort Sill

Lawton Co: Comanche OK 73503-5100

Property Number: 21199730383

Status: Unutilized

Comments: Approx. 9300 sq. ft., possible asbestos/lead paint, most recent use—storage, off-site use only

Bldg. T-3314

Fort Sill

Lawton Co: Comanche OK 73503-5100

Property Number: 21199730385

Status: Unutilized

Comments: 229 sq. ft., possible asbestos/lead paint, most recent use—office, off-site use only

Bldg. T-5041

Fort Sill

Lawton Co: Comanche OK 73503-5100

Property Number: 21199730409

Status: Unutilized

Comments: 763 sq. ft., possible asbestos/lead paint, most recent use—storage, off-site use only

Bldg. T-5420

Fort Sill

Lawton Co: Comanche OK 73503-5100

Property Number: 21199730414

Status: Unutilized

Comments: 189 sq. ft., possible asbestos/lead paint, most recent use—fuel storage, off-site use only

Bldg. T-7775

Fort Sill

Lawton Co: Comanche OK 73503-5100

Property Number: 21199730419

Status: Unutilized

Comments: 1452 sq. ft., possible asbestos/lead paint, most recent use—private club, off-site use only

4 Bldgs.

Fort Sill

P-617, P-1114, P-1386, P-1608

Lawton Co: Comanche OK 73503-5100

Property Number: 21199910133

Status: Unutilized

Comments: 106 sq. ft., possible asbestos/lead paint, most recent use—utility plant, off-site use only

Bldg. P-746

Fort Sill

Lawton Co: Comanche OK 73503-5100

Property Number: 21199910135

Status: Unutilized

Comments: 6299 sq. ft., possible asbestos/lead paint, most recent use—admin., off-site use only

Bldg. P-2582

Fort Sill

Lawton Co: Comanche OK 73503-5100

Property Number: 21199910141

Status: Unutilized

Comments: 3672 sq. ft., possible asbestos/lead paint, most recent use—admin., off-site use only

Bldg. P-2914

Fort Sill

Lawton Co: Comanche OK 73503-5100

Property Number: 21199910146

Status: Unutilized

Comments: 1236 sq. ft., possible asbestos/lead paint, most recent use—storage, off-site use only

Bldg. P-5101

Fort Sill

Lawton Co: Comanche OK 73503-5100

Property Number: 21199910153

Status: Unutilized

Comments: 82 sq. ft., possible asbestos/lead paint, most recent use—gas station, off-site use only

Bldg. S-6430

Fort Sill

Lawton Co: Comanche OK 73503-5100

Property Number: 21199910156

Status: Unutilized

Comments: 2080 sq. ft., possible asbestos/lead paint, most recent use—range support, off-site use only

Bldg. T-6461

Fort Sill

Lawton Co: Comanche OK 73503-5100

Property Number: 21199910157

Status: Unutilized

Comments: 200 sq. ft., possible asbestos/lead paint, most recent use—range support, off-site use only

Bldg. T-6462

Fort Sill

Lawton Co: Comanche OK 73503-5100

Property Number: 21199910158

Status: Unutilized

Comments: 64 sq. ft., possible asbestos/lead paint, most recent use—control tower, off-site use only

Bldg. P-7230

Fort Sill

Lawton Co: Comanche OK 73503-5100

Property Number: 21199910159

Status: Unutilized

Comments: 160 sq. ft., possible asbestos/lead paint, most recent use—transmitter bldg., off-site use only

Bldg. S-4023

Fort Sill

Lawton Co: Comanche OK 73503-5100

Property Number: 21200010128

Status: Unutilized

Comments: 1200 sq. ft., possible asbestos/lead paint, most recent use—storage, off-site use only

Bldg. P-747

Fort Sill

Lawton Co: Comanche OK 73503-5100

Property Number: 21200120120

Status: Unutilized

Comments: 9232 sq. ft., possible asbestos/lead paint, most recent use—lab, off-site use only

Bldg. P-842

Fort Sill

Lawton Co: Comanche OK 73503-5100

Property Number: 21200120123

Status: Unutilized

Comments: 192 sq. ft., possible asbestos/lead paint, most recent use—storage, off-site use only

Bldg. T-911

Fort Sill

Lawton Co: Comanche OK 73503-5100

Property Number: 21200120124

Status: Unutilized

Comments: 3080 sq. ft., possible asbestos/lead paint, most recent use—office, off-site use only

Bldg. P-1672

Fort Sill

Lawton Co: Comanche OK 73503-5100

Property Number: 21200120126

Status: Unutilized

Comments: 1056 sq. ft., possible asbestos/lead paint, most recent use—storage, off-site use only

Bldg. S-2362

Fort Sill

Lawton Co: Comanche OK 73503-5100

Property Number: 21200120127

Status: Unutilized

Comments: 64 sq. ft., possible asbestos/lead paint, most recent use—gatehouse, off-site use only

Bldg. P-2589

Fort Sill

Lawton Co: Comanche OK 73503-5100

Property Number: 21200120129

Status: Unutilized

Comments: 3672 sq. ft., possible asbestos/lead paint, most recent use—storage, off-site use only

Bldgs. 00937, 00957

Fort Sill

Lawton OK 73501

Property Number: 21200710104

Status: Unutilized

Comments: 1558 sq. ft., most recent use—storage shed, off-site use only

Bldg. 01514

Fort Sill

Lawton OK 73501

Property Number: 21200710105

Status: Unutilized

Comments: 1602 sq. ft., most recent use—storage, off-site use only

Bldg. 05685

Fort Sill

Lawton OK 73501

Property Number: 21200820152

Status: Unutilized

Comments: 24,072 sq. ft., concrete block w/ brick, off-site use only

Bldg. 07480

Fort Sill

Lawton OK 73501

Property Number: 21200920002

Status: Unutilized

Comments: 1200 sq. ft., most recent use—recreation, off-site use only

Bldg. 01509, 01510

Fort Sill

Lawton OK 73501

Property Number: 21200920060

Status: Unutilized

Comments: Various sq. ft., most recent use—vehicle maint. shop, off-site use only

4 Bldgs.

Fort Sill

2591, 2593, 2595, 2604

Lawton OK 73501

Property Number: 21200920061

Status: Unutilized

Comments: Various sq. ft., most recent use—classroom/admin, off-site use only

Bldg. 06456

Fort Sill

Lawton OK 73501

Property Number: 21200930003

Status: Unutilized

Comments: 413 sq. ft. range support facility, off-site use only

South Dakota

Building

Bldg. 03001

Jonas H. Lien AFRC

Sioux Falls SD 57104

Property Number: 21200740187

Status: Unutilized

Comments: 33282 sq. ft., most recent use—training center

Bldg. 03003

Jonas H. Lien AFRC

Sioux Falls SD 57104

Property Number: 21200740188

Status: Unutilized

Comments: 4675 sq. ft., most recent use—vehicle maint. shop

Tennessee

Building

Bldg. Trail

Fort Campbell

Montgomery TN 42223

Property Number: 21200920010

Status: Excess

Comments: 2104 sq. ft., double-wide trailer, off-site use only

Bldg. 00001

Fort Campbell

Christian TN 42223

Property Number: 21200920027

Status: Unutilized

Comments: Double wide trailer, off-site use only

Land

Parcel No. 1

Fort Campbell

Tract No. 13M-3

Montgomery TN 42223

Property Number: 21200920003

Status: Excess

Comments: 6.89 acres/thick vegetation

Parcel No. 2

Fort Campbell

Tract Nos. 12M-16B & 13M-3

Montgomery TN 42223

Property Number: 21200920004

Status: Excess

Comments: 3.41 acres/wooded

Parcel No. 3

Fort Campbell

Tract No. 12M-4

Montgomery TN 42223

Property Number: 21200920005

Status: Excess

Comments: 6.56 acre/wooded

Parcel No. 4

Fort Campbell

Tract Nos. 10M-22 &10M-23

Montgomery TN 42223

Property Number: 21200920006

Status: Excess

Comments: 5.73 acres/wooded

Parcel No. 5

Fort Campbell

Tract No. 10M-20

Montgomery TN 42223

Property Number: 21200920007

Status: Excess

Comments: 3.86 acres/wooded

Parcel No. 7

Fort Campbell

Tract No. 10M-10

Montgomery TN 42223

Property Number: 21200920008

Status: Excess

Comments: 9.47 acres/wooded

Parcel No. 8

Fort Campbell

Tract No. 8M-7

Montgomery TN 42223

Property Number: 21200920009

Status: Excess

Comments: 15.13 acres/wooded

Parcel No. 6

Fort Campbell

Hwy 79

Montgomery TN 42223

Property Number: 21200940013

Status: Excess

Comments: 4.55 acres, wooded w/dirt road/fire break

Texas

Building

Bldg. 7137, Fort Bliss

El Paso Co: El Paso TX 79916

Property Number: 21199640564

Status: Unutilized

Comments: 35,736 sq. ft., 3-story, most recent use—housing, off-site use only

Bldg. 92043

Fort Hood

Ft. Hood Co: Bell TX 76544

Property Number: 21200020206

Status: Unutilized

Comments: 450 sq. ft., most recent use—storage, off-site use only

Bldg. 92044

Fort Hood

Ft. Hood Co: Bell TX 76544

Property Number: 21200020207

Status: Unutilized

Comments: 1920 sq. ft., most recent use—admin., off-site use only

Bldg. 92045

Fort Hood

Ft. Hood Co: Bell TX 76544

Property Number: 21200020208

Status: Unutilized

Comments: 2108 sq. ft., most recent use—maint., off-site use only

Bldg. 56305

Fort Hood

Ft. Hood Co: Bell TX 76544

Property Number: 21200220143

Status: Unutilized

Comments: 2160 sq. ft., most recent use—admin., off-site use only

Bldgs. 56620, 56621

Fort Hood

Ft. Hood Co: Bell TX 76544

Property Number: 21200220146

Status: Unutilized

Comments: 1120 sq. ft., most recent use—shower, off-site use only

Bldg. 56626, 56627

Fort Hood

Ft. Hood Co: Bell TX 76544

Property Number: 21200220147

Status: Unutilized

Comments: 1120 sq. ft., most recent use—shower, off-site use only

Bldg. 56628

Fort Hood

Ft. Hood Co: Bell TX 76544

Property Number: 21200220148

Status: Unutilized

Comments: 1133 sq. ft., most recent use—shower, off-site use only

Bldgs. 56636, 56637

Fort Hood

Ft. Hood Co: Bell TX 76544

Property Number: 21200220150

Status: Unutilized

Comments: 1120 sq. ft., most recent use—shower, off-site use only

Bldg. 56638

Fort Hood

Ft. Hood Co: Bell TX 76544

Property Number: 21200220151

Status: Unutilized

Comments: 1133 sq. ft., most recent use—shower, off-site use only

Bldgs. 56703, 56708

Fort Hood

Ft. Hood Co: Bell TX 76544

Property Number: 21200220152

Status: Unutilized

Comments: 1306 sq. ft., most recent use—shower, off-site use only

Bldg. 56758

Fort Hood

Ft. Hood Co: Bell TX 76544

Property Number: 21200220154

Status: Unutilized

Comments: 1133 sq. ft., most recent use—shower, off-site use only

Bldgs. P6220, P6222

Fort Sam Houston

Camp Bullis

San Antonio Co: Bexar TX

Property Number: 21200330197

Status: Unutilized

Comments: 384 sq. ft., most recent use—carport/storage, off-site use only

Bldgs. P6224, P6226

Fort Sam Houston

Camp Bullis

San Antonio Co: Bexar TX

Property Number: 21200330198

Status: Unutilized

Comments: 384 sq. ft., most recent use—carport/storage, off-site use only

Bldg. 92039

Fort Hood

Ft. Hood Co: Bell TX 76544

Property Number: 21200640101

Status: Excess

Comments: 80 sq. ft., most recent use—storage, off-site use only

Bldgs. 04281, 04283

Fort Hood

Bell TX 76544

Property Number: 21200720085

Status: Excess

Comments: 4000/8020 sq. ft., most recent use—storage shed, off-site use only

Bldg. 04284

Fort Hood

Bell TX 76544

Property Number: 21200720086

Status: Excess

Comments: 800 sq. ft., presence of asbestos, most recent use—storage shed, off-site use only

Bldg. 04285

Fort Hood

Bell TX 76544

Property Number: 21200720087

Status: Excess

Comments: 8000 sq. ft., most recent use—storage shed, off-site use only

Bldg. 04286

Fort Hood

Bell TX 76544

Property Number: 21200720088

Status: Excess

Comments: 36,000 sq. ft., presence of asbestos, most recent use—storage shed, off-site use only

Bldg. 04291

Fort Hood

Bell TX 76544

Property Number: 21200720089

Status: Excess

Comments: 6400 sq. ft., presence of asbestos, most recent use—storage shed, off-site use only

Bldg. 4410

Fort Hood

Bell TX 76544

Property Number: 21200720090

Status: Excess

Comments: 12,956 sq. ft., presence of asbestos, most recent use—simulation center, off-site use only

Bldgs. 10031, 10032, 10033

Fort Hood

Bell TX 76544

Property Number: 21200720091

Status: Excess

Comments: 2578/3383 sq. ft., presence of asbestos, most recent use—admin., off-site use only

Bldg. 56524, 56532

Fort Hood

Bell TX 76544

Property Number: 21200720092

Status: Excess

Comments: 600 sq. ft., presence of asbestos, most recent use—dining, off-site use only

Bldg. 56435

Fort Hood

Bell TX 76544

Property Number: 21200720093

Status: Excess

Comments: 3441 sq. ft., presence of asbestos, most recent use—barracks, off-site use only

Bldg. 05708

Fort Hood

Bell TX 76544

Property Number: 21200720094

Status: Excess

Comments: 1344 sq. ft., most recent use—community center, off-site use only

Bldg. 90001

Fort Hood

Bell TX 76544

Property Number: 21200720095

Status: Excess

Comments: 3574 sq. ft., presence of asbestos, most recent use—transmitter bldg., off-site use only

Bldg. 93013

Fort Hood

Bell TX 76544

Property Number: 21200720099

Status: Excess

Comments: 800 sq. ft., most recent use—club, off-site use only

5 Bldgs.

Fort Hood

Bell TX 76544

Location: 56541, 56546, 56547, 56548, 56638

Property Number: 21200740195

Status: Excess

Comments: 1120/1133 sq. ft., presence of asbestos, most recent use—lavatory, off-site use only

4 Bldgs.

Fort Hood

Bell TX 76544

Location: 00229, 00230, 00231, 00232

Property Number: 21200810048

Status: Unutilized

Comments: Various sq. ft., presence of asbestos, most recent use—training aids center, off-site use only

Bldg. 00324

Fort Hood

Bell TX 76544

Property Number: 21200810049

Status: Unutilized

Comments: 13,319 sq. ft., most recent use—roller skating rink, off-site use only

Bldgs. 00710, 00739, 00741

Fort Hood

Bell TX 76544

Property Number: 21200810050

Status: Unutilized

Comments: Various sq. ft., presence of asbestos, most recent use—repair shop, off-site use only

5 Bldgs.

Fort Hood

Bell TX 76544

Location: 00711, 00712, 02219, 02612, 05780

Property Number: 21200810051

Status: Unutilized

Comments: Various sq. ft., presence of asbestos, most recent use—storage, off-site use only

Bldg. 00713

Fort Hood

Bell TX 76544

Property Number: 21200810052

Status: Unutilized

Comments: 3200 sq. ft., presence of asbestos, most recent use—hdqts. bldg., off-site use only

Bldgs. 1938, 04229

Fort Hood

Bell TX 76544

Property Number: 21200810053

Status: Unutilized

Comments: 2736/9000 sq. ft., presence of asbestos, most recent use—admin., off-site use only

Bldgs. 02218, 02220

Fort Hood

Bell TX 76544

Property Number: 21200810054

Status: Unutilized

Comments: 7289/1456 sq. ft., presence of asbestos, most recent use—museum, off-site use only

Bldg. 0350

Fort Hood

Bell TX 76544

Property Number: 21200810055

Status: Unutilized

Comments: 28,290 sq. ft., presence of asbestos, most recent use—veh. maint. shop, off-site use only

Bldg. 04449

Fort Hood

Bell TX 76544

Property Number: 21200810056

Status: Unutilized

Comments: 3822 sq. ft., most recent use—police station, off-site use only

Bldg. 91077

Fort Hood

Bell TX 76544

Property Number: 21200810057

Status: Unutilized

Comments: 3200 sq. ft., presence of asbestos, most recent use—educational facility, off-site use only

Bldg. 1610

Fort Bliss

El Paso TX 79916

Property Number: 21200810059

Status: Excess

Comments: 11056 sq. ft., concrete/stucco, most recent use—gas station/store, off-site use only

Bldg. 1680

Fort Bliss

El Paso TX 79916

Property Number: 21200810060

Status: Excess

Comments: 3690 sq. ft., concrete/stucco, most recent use—restaurant, off-site use only

12 Bldgs.

Fort Hood

Ft. Hood TX 76544

Location: 56522, 56523, 56525, 56533, 56534, 56535, 56539, 56542, 56543, 56544, 56545, 56549

Property Number: 21200820153

Status: Excess

Comments: 600/607 sq. ft., presence of asbestos, most recent use—dining, off-site use only

10 Bldgs.

Fort Hood

Ft. Hood TX 76544

Location: 56622, 56623, 56624, 56625, 56629, 56632, 56633, 56634, 56635, 56639

Property Number: 21200820154

Status: Excess

Comments: 500/507 sq. ft., presence of asbestos, most recent use—dining, off-site use only

6 Bldgs.

Fort Hood

Bell TX 76544

Location: 56412, 57023, 57024, 57025, 57009, 57010

Property Number: 21200840070

Status: Excess

Comments: Presence of asbestos, most recent use—storage, off-site use only

9 Bldgs.

Fort Hood

Bell TX 76544

Location: 56529, 56618, 56702, 56710, 56752, 56753, 56754, 56755, 56759

Property Number: 21200840071

Status: Excess

Comments: Presence of asbestos, most recent use—dining facility, off-site use only

Bldg. 56703

Fort Hood

Bell TX 76544

Property Number: 21200840072

Status: Excess

Comments: 1306 sq. ft., presence of asbestos, most recent use—shower, off-site use only

Bldg. 57005

Fort Hood

Bell TX 76544

Property Number: 21200840073

Status: Excess

Comments: 500 sq. ft., presence of asbestos, most recent use—water supply/treatment, off-site use only

Land

1 acre

Fort Sam Houston

San Antonio Co: Bexar TX 78234

Property Number: 21200440075

Status: Excess

Comments: 1 acre, grassy area

Utah

Building

Bldg. 00001

Borgstrom Hall USARC

Ogden UT 84401

Property Number: 21200740196

Status: Excess

Comments: 16543 sq. ft., most recent use—training center, off-site use only

Bldg. 00002

Borgstrom Hall USARC

Ogden UT 84401

Property Number: 21200740197

Status: Excess

Comments: 3842 sq. ft., most recent use—vehicle maint. shop, off-site use only

Bldg. 00005

Borgstrom Hall USARC

Ogden UT 84401

Property Number: 21200740198

Status: Excess

Comments: 96 sq. ft., most recent use—storage, off-site use only

Virginia

Building

Fort Story

Ft. Story VA 23459

Property Number: 21200720065

Status: Unutilized

Comments: 525 sq. ft., most recent use—power plant, off-site use only

Bldg. 01633

Fort Eustis

Ft. Eustis VA 23604

Property Number: 21200720076

Status: Unutilized

Comments: 240 sq. ft., most recent use—storage, off-site use only

Bldg. 02786

Fort Eustis

Ft. Eustis VA 23604

Property Number: 21200720084

Status: Unutilized

Comments: 1596 sq. ft., most recent use—admin., off-site use only

Bldg. P0838

Fort Eustis

Ft. Eustis VA 23604

Property Number: 21200830005

Status: Unutilized

Comments: 576 sq. ft., most recent use—rec shelter, off-site use only

Washington

Building

Bldg. CO909, Fort Lewis

Ft. Lewis Co: Pierce WA 98433-9500

Property Number: 21199630205

Status: Unutilized

Comments: 1984 sq. ft., possible asbestos/lead paint, most recent use—admin., off-site use only

Bldg. 1164, Fort Lewis

Ft. Lewis Co: Pierce WA 98433-9500

Property Number: 21199630213

Status: Unutilized

Comments: 230 sq. ft., possible asbestos/lead paint, most recent use—storehouse, off-site use only

Bldg. 1307, Fort Lewis

Ft. Lewis Co: Pierce WA 98433-9500

Property Number: 21199630216

Status: Unutilized

Comments: 1092 sq. ft., possible asbestos/lead paint, most recent use—storage, off-site use only

Bldg. 1309, Fort Lewis

Ft. Lewis Co: Pierce WA 98433-9500

Property Number: 21199630217

Status: Unutilized

Comments: 1092 sq. ft., possible asbestos/lead paint, most recent use—storage, off-site use only

Bldg. 2167, Fort Lewis

Ft. Lewis Co: Pierce WA 98433-9500

Property Number: 21199630218

Status: Unutilized

Comments: 288 sq. ft., possible asbestos/lead paint, most recent use—warehouse, off-site use only

Bldg. 4078, Fort Lewis

Ft. Lewis Co: Pierce WA 98433-9500

Property Number: 21199630219

Status: Unutilized

Comments: 10200 sq. ft., needs rehab, possible asbestos/lead paint, most recent use—warehouse, off-site use only

Bldg. 9599, Fort Lewis

Ft. Lewis Co: Pierce WA 98433-9500

Property Number: 21199630220

Status: Unutilized

Comments: 12366 sq. ft., possible asbestos/lead paint, most recent use—warehouse, off-site use only

Bldg. A1404, Fort Lewis

Ft. Lewis Co: Pierce WA 98433

Property Number: 21199640570

Status: Unutilized

Comments: 557 sq. ft., needs rehab, most recent use—storage, off-site use only

Bldg. EO347

Fort Lewis

Ft. Lewis Co: Pierce WA 98433

Property Number: 21199710156

Status: Unutilized

Comments: 1800 sq. ft., possible asbestos/lead paint, most recent use—office, off-site use only

Bldg. B1008, Fort Lewis

Ft. Lewis Co: Pierce WA 98433

Property Number: 21199720216

Status: Unutilized

Comments: 7387 sq. ft., 2-story, needs rehab, possible asbestos/lead paint, most recent use—medical clinic, off-site use only

Bldgs. CO509, CO709, CO720

Fort Lewis

Ft. Lewis Co: Pierce WA 98433

Property Number: 21199810372

Status: Unutilized

Comments: 1984 sq. ft., possible asbestos/lead paint, needs rehab, most recent use—storage, offsite use only

Bldg. 5162

Fort Lewis

Ft. Lewis Co: Pierce WA 98433

Property Number: 21199830419

Status: Unutilized

Comments: 2360 sq. ft., needs repair, presence of asbestos/lead paint, most recent use—office, offsite use only

Bldg. 5224

Fort Lewis

Ft. Lewis Co: Pierce WA 98433

Property Number: 21199830433

Status: Unutilized

Comments: 2360 sq. ft., needs repair, presence of asbestos/lead paint, most recent use—educ. fac., off-site use only

Bldg. U001B

Fort Lewis

Ft. Lewis Co: Pierce WA 98433

Property Number: 21199920237

Status: Excess

Comments: 54 sq. ft., needs repair, presence of asbestos/lead paint, most recent use—control tower, off-site use only

Bldg. U001C

Fort Lewis

Ft. Lewis Co: Pierce WA 98433

Property Number: 21199920238

Status: Unutilized

Comments: 960 sq. ft., needs repair, presence of asbestos/lead paint, most recent use—supply, offsite use only

10 Bldgs.

Fort Lewis

Ft. Lewis Co: Pierce WA 98433

Location: U002B, U002C, U005C, U015I, U016E, U019C, U022A, U028B, 0091A, U093C

Property Number: 21199920239

Status: Excess

Comments: 600 sq. ft., needs repair, presence of asbestos/lead paint, most recent use—range house, off-site use only

6 Bldgs.

Fort Lewis

Ft. Lewis Co: Pierce WA 98433

Location: U003A, U004B, U006C, U015B, U016B, U019B

Property Number: 21199920240

Status: Unutilized

Comments: 54 sq. ft., needs repair, presence of asbestos/lead paint, most recent use—control tower, off-site use only

Bldg. U004D

Fort Lewis

Ft. Lewis Co: Pierce WA 98433

Property Number: 21199920241

Status: Unutilized

Comments: 960 sq. ft., needs repair, presence of asbestos/lead paint, most recent use—supply, off-site use only

Bldg. U005A

Fort Lewis

Ft. Lewis Co: Pierce WA 98433

Property Number: 21199920242

Status: Unutilized

Comments: 360 sq. ft., needs repair, presence of asbestos/lead paint, most recent use—control tower, off-site use only

7 Bldgs.

Fort Lewis

Ft. Lewis Co: Pierce WA 98433

Location: U014A, U022B, U023A, U043B, U059B, U060A, U101A

Property Number: 21199920245

Status: Excess

Comments: Needs repair, presence of asbestos/lead paint, most recent use—ofc/tower/support, off-site use only

Bldg. U015J

Fort Lewis

Ft. Lewis Co: Pierce WA 98433

Property Number: 21199920246

Status: Excess

Comments: 144 sq. ft., needs repair, presence of asbestos/lead paint, most recent use—tower, off-site use only

Bldg. U018B

Fort Lewis

Ft. Lewis Co: Pierce WA 98433

Property Number: 21199920247

Status: Unutilized

Comments: 121 sq. ft., needs repair, presence of asbestos/lead paint, most recent use—range house, off-site use only

Bldg. U018C

Fort Lewis

Ft. Lewis Co: Pierce WA 98433

Property Number: 21199920248

Status: Unutilized

Comments: 48 sq. ft., needs repair, presence of asbestos/lead paint, off-site use only

Bldg. U024D

Fort Lewis

Ft. Lewis Co: Pierce WA 98433

Property Number: 21199920250

Status: Unutilized

Comments: 120 sq. ft., needs repair, presence of asbestos/lead paint, most recent use—ammo bldg., off-site use only

Bldg. U027A

Fort Lewis

Ft. Lewis Co: Pierce WA

Property Number: 21199920251

Status: Excess

Comments: 64 sq. ft., needs repair, presence of asbestos/lead paint, most recent use—tire house, off-site use only

Bldg. U031A

Fort Lewis

Ft. Lewis Co: Pierce WA 98433

Property Number: 21199920253

Status: Excess

Comments: 3456 sq. ft., needs repair, presence of asbestos/lead paint, most recent use—line shed, off-site use only

Bldg. U031C

Fort Lewis

Ft. Lewis Co: Pierce WA 98433

Property Number: 21199920254

Status: Unutilized

Comments: 32 sq. ft., needs repair, presence of asbestos/lead paint, off-site use only

Bldg. U040D

Fort Lewis

Ft. Lewis Co: Pierce WA 98433

Property Number: 21199920255

Status: Excess

Comments: 800 sq. ft., needs repair, presence of asbestos/lead paint, most recent use—range house, off-site use only

Bldgs. U052C, U052H

Fort Lewis

Ft. Lewis Co: Pierce WA 98433

Property Number: 21199920256

Status: Excess

Comments: Various sq. ft., needs repair, presence of asbestos/lead paint, most recent use—range house, off-site use only

Bldgs. U035A, U035B

Fort Lewis

Ft. Lewis Co: Pierce WA 98433

Property Number: 21199920257

Status: Excess

Comments: 192 sq. ft., needs repair, presence of asbestos/lead paint, most recent use—shelter, off-site use only

Bldg. U035C

Fort Lewis

Ft. Lewis Co: Pierce WA 98433

Property Number: 21199920258

Status: Excess

Comments: 242 sq. ft., needs repair, presence of asbestos/lead paint, most recent use—range house, off-site use only

Bldg. U039A

Fort Lewis

Ft. Lewis Co: Pierce WA 98433

Property Number: 21199920259

Status: Excess

Comments: 36 sq. ft., needs repair, presence of asbestos/lead paint, most recent use—control tower, off-site use only

Bldg. U039B

Fort Lewis

Ft. Lewis Co: Pierce WA 98433

Property Number: 21199920260

Status: Excess

Comments: 1600 sq. ft., needs repair, presence of asbestos/lead paint, most recent use—grandstand/bleachers, off-site use only

Bldg. U039C

Fort Lewis

Ft. Lewis Co: Pierce WA 98433

Property Number: 21199920261

Status: Excess

Comments: 600 sq. ft., needs repair, presence of asbestos/lead paint, most recent use—support, off-site use only

Bldg. U043A

Fort Lewis

Ft. Lewis Co: Pierce WA 98433

Property Number: 21199920262

Status: Excess

Comments: 132 sq. ft., needs repair, presence of asbestos/lead paint, most recent use—range house, off-site use only

Bldg. U052A

Fort Lewis

Ft. Lewis Co: Pierce WA 98433

Property Number: 21199920263

Status: Excess

Comments: 69 sq. ft., needs repair, presence of asbestos/lead paint, most recent use—tower, off-site use only

Bldg. U052E

Fort Lewis

Ft. Lewis Co: Pierce WA 98433

Property Number: 21199920264

Status: Excess

Comments: 600 sq. ft., needs repair, presence of asbestos/lead paint, most recent use—storage, off-site use only

Bldg. U052G

Fort Lewis

Ft. Lewis Co: Pierce WA 98433

Property Number: 21199920265

Status: Excess

Comments: 1600 sq. ft., needs repair, presence of asbestos/lead paint, most recent use—shelter, off-site use only

3 Bldgs.

Fort Lewis

Ft. Lewis Co: Pierce WA 98433

Location: U058A, U103A, U018A

Property Number: 21199920266

Status: Excess

Comments: 36 sq. ft., needs repair, presence of asbestos/lead paint, most recent use—control tower, off-site use only

Bldg. U059A

Fort Lewis

Ft. Lewis Co: Pierce WA 98433

Property Number: 21199920267

Status: Excess

Comments: 16 sq. ft., needs repair, presence of asbestos/lead paint, most recent use—tower, off-site use only

Bldg. U093B

Fort Lewis

Ft. Lewis Co: Pierce WA 98433

Property Number: 21199920268

Status: Excess

Comments: 680 sq. ft., needs repair, presence of asbestos/lead paint, most recent use—range house, off-site use only

4 Bldgs.

Fort Lewis

Ft. Lewis Co: Pierce WA 98433

Location: U101B, U101C, U507B, U557A

Property Number: 21199920269

Status: Excess

Comments: 400 sq. ft., needs repair, presence of asbestos/lead paint, off-site use only

Bldg. U110B

Fort Lewis

Ft. Lewis Co: Pierce WA 98433

Property Number: 21199920272

Status: Excess

Comments: 138 sq. ft., needs repair, presence of asbestos/lead paint, most recent use—support, off-site use only

6 Bldgs.

Fort Lewis

Ft. Lewis Co: Pierce WA 98433

Location: U111A, U015A, U024E, U052F, U109A, U110A

Property Number: 21199920273

Status: Excess

Comments: 1000 sq. ft., needs repair, presence of asbestos/lead paint, most recent use—support/shelter/mess, off-site use only

Bldg. U112A

Fort Lewis

Ft. Lewis Co: Pierce WA 98433

Property Number: 21199920274

Status: Excess

Comments: 1600 sq. ft., needs repair, presence of asbestos/lead paint, most recent use—shelter, off-site use only

Bldg. U115A

Fort Lewis

Ft. Lewis Co: Pierce WA 98433

Property Number: 21199920275

Status: Excess

Comments: 36 sq. ft., needs repair, presence of asbestos/lead paint, most recent use—tower, off-site use only

Bldg. U507A

Fort Lewis

Ft. Lewis Co: Pierce WA 98433

Property Number: 21199920276

Status: Excess

Comments: 400 sq. ft., needs repair, presence of asbestos/lead paint, most recent use—support, off-site use only

Bldg. C0120

Fort Lewis

Ft. Lewis Co: Pierce WA 98433

Property Number: 21199920281

Status: Excess

Comments: 384 sq. ft., needs repair, presence of asbestos/lead paint, most recent use—scale house, off-site use only

Bldg. 01205

Fort Lewis

Ft. Lewis Co: Pierce WA 98433

Property Number: 21199920290

Status: Excess

Comments: 87 sq. ft., needs repair, presence of asbestos/lead paint, most recent use—storehouse, off-site use only

Bldg. 01259

Fort Lewis

Ft. Lewis Co: Pierce WA 98433

Property Number: 21199920291

Status: Excess

Comments: 16 sq. ft., needs repair, presence of asbestos/lead paint, most recent use—storage, off-site use only

Bldg. 01266

Fort Lewis

Ft. Lewis Co: Pierce WA 98433

Property Number: 21199920292

Status: Excess

Comments: 45 sq. ft., needs repair, presence of asbestos/lead paint, most recent use—shelter, off-site use only

Bldg. 1445

Fort Lewis

Ft. Lewis Co: Pierce WA 98433

Property Number: 21199920294

Status: Excess

Comments: 144 sq. ft., needs repair, presence of asbestos/lead paint, most recent use—generator bldg., off-site use only

Bldgs. 03091, 03099

Fort Lewis

Ft. Lewis Co: Pierce WA 98433

Property Number: 21199920296

Status: Excess

Comments: Various sq. ft., needs repair, presence of asbestos/lead paint, most recent use—sentry station, off-site use only

Bldg. 4040

Fort Lewis

Ft. Lewis Co: Pierce WA 98433

Property Number: 21199920298

Status: Excess

Comments: 8326 sq. ft., needs repair, presence of asbestos/lead paint, most recent use—shed, off-site use only

Bldgs. 4072, 5104

Fort Lewis

Ft. Lewis Co: Pierce WA 98433

Property Number: 21199920299

Status: Excess

Comments: 24/36 sq. ft., needs repair, presence of asbestos/lead paint, off-site use only

Bldg. 4295

Fort Lewis

Ft. Lewis Co: Pierce WA 98433

Property Number: 21199920300

Status: Excess

Comments: 48 sq. ft., needs repair, presence of asbestos/lead paint, most recent use—storage, off-site use only

Bldg. 6191

Fort Lewis

Ft. Lewis Co: Pierce WA 98433

Property Number: 21199920303

Status: Excess

Comments: 3663 sq. ft., needs repair, presence of asbestos/lead paint, most recent use—exchange branch, off-site use only

Bldgs. 08076, 08080

Fort Lewis

Ft. Lewis Co: Pierce WA 98433

Property Number: 21199920304

Status: Excess

Comments: 3660/412 sq. ft., needs repair, presence of asbestos/lead paint, off-site use only

Bldg. 08093

Fort Lewis

Ft. Lewis Co: Pierce WA 98433

Property Number: 21199920305

Status: Excess

Comments: 289 sq. ft., needs repair, presence of asbestos/lead paint, most recent use—boat storage, off-site use only

Bldg. 8279

Fort Lewis

Ft. Lewis Co: Pierce WA 98433

Property Number: 21199920306

Status: Excess

Comments: 210 sq. ft., needs repair, presence of asbestos/lead paint, most recent use—fuel disp. fac., off-site use only

Bldgs. 8280, 8291

Fort Lewis

Ft. Lewis Co: Pierce WA 98433

Property Number: 21199920307

Status: Excess

Comments: 800/464 sq. ft., needs repair, presence of asbestos/lead paint, most recent use—storage, off-site use only

Bldg. 8956

Fort Lewis

Ft. Lewis Co: Pierce WA 98433

Property Number: 21199920308

Status: Excess

Comments: 100 sq. ft., needs repair, presence of asbestos/lead paint, most recent use—storage, off-site use only

Bldg. 9530

Fort Lewis

Ft. Lewis Co: Pierce WA 98433

Property Number: 21199920309

Status: Excess

Comments: 64 sq. ft., needs repair, presence of asbestos/lead paint, most recent use—sentry station, off-site use only

Bldg. 9574

Fort Lewis

Ft. Lewis Co: Pierce WA 98433

Property Number: 21199920310

Status: Excess

Comments: 6005 sq. ft., needs repair, presence of asbestos/lead paint, most recent use—veh. shop., off-site use only

Bldg. 9596

Fort Lewis

Ft. Lewis Co: Pierce WA 98433

Property Number: 21199920311

Status: Excess

Comments: 36 sq. ft., needs repair, presence of asbestos/lead paint, most recent use—gas station, off-site use only

COE

California

Building

4 Bldgs.

OTH-B Radar Site

Tulelake CA 91634

Property Number: 31200840001

Status: Unutilized

Comments: Most recent use—communications/vehicle maint., off-site use only

Kentucky

Building

Green River Lock #3

Rochester Co: Butler KY 42273

Location: SR 70 west from Morgantown, KY, approximately 7 miles to site

Property Number: 31199010022

Status: Unutilized

Comments: 980 sq. ft.; 2 story wood frame; two story residence; potential utilities; needs major rehab

Land

Tract 2625

Barkley Lake, Kentucky, and Tennessee

Cadiz Co: Trigg KY 42211

Location: Adjoining the village of Rockcastle

Property Number: 31199010025

Status: Excess

Comments: 2.57 acres; rolling and wooded

Tract 2709-10 and 2710-2

Barkley Lake, Kentucky and Tennessee

Cadiz Co: Trigg KY 42211

Location: 2½ miles in a southerly direction from the village of Rockcastle

Property Number: 31199010026

Status: Excess

Comments: 2.00 acres; steep and wooded

Tract 2708-1 and 2709-1

Barkley Lake, Kentucky and Tennessee

Cadiz Co: Trigg KY 42211

Location: 2½ miles in a southerly direction from the village of Rockcastle

Property Number: 31199010027

Status: Excess

Comments: 3.59 acres; rolling and wooded; no utilities

Tract 2800

Barkley Lake, Kentucky and Tennessee

Cadiz Co: Trigg KY 42211

Location: 4½ miles in a southeasterly direction from the village of Rockcastle

Property Number: 31199010028

Status: Excess

Comments: 5.44 acres; steep and wooded

Tract 2915

Barkley Lake, Kentucky and Tennessee

Cadiz Co: Trigg KY 42211

Location: 6½ miles west of Cadiz

Property Number: 31199010029

Status: Excess

Comments: 5.76 acres; steep and wooded; no utilities

Tract 2702

Barkley Lake, Kentucky and Tennessee

Cadiz Co: Trigg KY 42211

Location: 1 mile in a southerly direction from the village of Rockcastle

Property Number: 31199010031

Status: Excess

Comments: 4.90 acres; wooded; no utilities

Tract 4318

Barkley Lake, Kentucky and Tennessee

Canton Co: Trigg KY 42212

Location: Trigg Co. adjoining the city of Canton, KY, on the waters of Hopson Creek

Property Number: 31199010032

Status: Excess

Comments: 8.24 acres; steep and wooded

Tract 4502

Barkley Lake, Kentucky and Tennessee

Canton Co: Trigg KY 42212

Location: 3½ miles in a southerly direction from Canton, KY

Property Number: 31199010033

Status: Excess

Comments: 4.26 acres; steep and wooded

Tract 4611

Barkley Lake, Kentucky and Tennessee

Canton Co: Trigg KY 42212

Location: 5 miles south of Canton, KY

Property Number: 31199010034

Status: Excess

Comments: 10.51 acres; steep and wooded; no utilities

Tract 4619

Barkley Lake, Kentucky and Tennessee

Canton Co: Trigg KY 42212

Location: 4½ miles south from Canton, KY

Property Number: 31199010035

Status: Excess

Comments: 2.02 acres; steep and wooded; no utilities

Tract 4817

Barkley Lake, Kentucky and Tennessee

Canton Co: Trigg KY 42212

Location: 6½ miles south of Canton, KY

Property Number: 31199010036

Status: Excess

Comments: 1.75 acres; wooded

Tract 1217

Barkley Lake, Kentucky and Tennessee

Eddyville Co: Lyon KY 42030

Location: On the north side of the Illinois Central Railroad

Property Number: 31199010042

Status: Excess

Comments: 5.80 acres; steep and wooded

Tract 1906

Barkley Lake, Kentucky and Tennessee

Eddyville Co: Lyon KY 42030

Location: Approximately 4 miles east of Eddyville, KY

Property Number: 31199010044

Status: Excess

Comments: 25.86 acres; rolling steep and partially wooded; no utilities

Tract 1907

Barkley Lake, Kentucky and Tennessee

Eddyville Co: Lyon KY 42038

Location: On the waters of Pilfen Creek, 4 miles east of Eddyville, KY

Property Number: 31199010045

Status: Excess

Comments: 8.71 acres; rolling steep and wooded; no utilities

Tract 2001 #1

Barkley Lake, Kentucky and Tennessee

Eddyville Co: Lyon KY 42030

Location: Approximately 4½ miles east of Eddyville, KY

Property Number: 31199010046

Status: Excess

Comments: 47.42 acres; steep and wooded; no utilities

Tract 2001 #2

Barkley Lake, Kentucky and Tennessee

Eddyville Co: Lyon KY 42030

Location: Approximately 4½ miles east of Eddyville, KY

Property Number: 31199010047

Status: Excess

Comments: 8.64 acres; steep and wooded; no utilities

Tract 2005

Barkley Lake, Kentucky and Tennessee

Eddyville Co: Lyon KY 42030

Location: Approximately 5½ miles east of Eddyville, KY

Property Number: 31199010048

Status: Excess

Comments: 4.62 acres; steep and wooded; no utilities

Tract 2307

Barkley Lake, Kentucky and Tennessee

Eddyville Co: Lyon KY 42030

Location: Approximately 7½ miles southeasterly of Eddyville, KY

Property Number: 31199010049

Status: Excess

Comments: 11.43 acres; steep; rolling and wooded; no utilities

Tract 2403

Barkley Lake, Kentucky and Tennessee

Eddyville Co: Lyon KY 42030

Location: 7 miles southeasterly of Eddyville, KY

Property Number: 31199010050

Status: Excess

Comments: 1.56 acres; steep and wooded; no utilities

Tract 2504

Barkley Lake, Kentucky and Tennessee

Eddyville Co: Lyon KY 42030

Location: 9 miles southeasterly of Eddyville, KY

Property Number: 31199010051

Status: Excess

Comments: 24.46 acres; steep and wooded; no utilities

Tract 214

Barkley Lake, Kentucky and Tennessee

Grand Rivers Co: Lyon KY 42045

Location: South of the Illinois Central Railroad, 1 mile east of the Cumberland River

Property Number: 31199010052

Status: Excess

Comments: 5.5 acres; wooded; no utilities

Tract 215

Barkley Lake, Kentucky and Tennessee

Grand Rivers Co: Lyon KY 42045

Location: 5 miles southwest of Kuttawa

Property Number: 31199010053

Status: Excess

Comments: 1.40 acres; wooded; no utilities

Tract 241

Barkley Lake, Kentucky and Tennessee

Grand Rivers Co: Lyon KY 42045

Location: Old Henson Ferry Road, 6 miles west of Kuttawa, KY

Property Number: 31199010054

Status: Excess

Comments: 1.26 acres; steep and wooded; no utilities

Tracts 306, 311, 315 and 325

Barkley Lake, Kentucky and Tennessee

Grand Rivers Co: Lyon KY 42045

Location: 2.5 miles southwest of Kuttawa, KY, on the waters of Cypress Creek

Property Number: 31199010055

Status: Excess

Comments: 38.77 acres; steep and wooded; no utilities

Tracts 2305, 2306, and 2400-1

Barkley Lake, Kentucky and Tennessee

Eddyville Co: Lyon KY 42030

Location: 6½ miles southeasterly of Eddyville, KY

Property Number: 31199010056

Status: Excess

Comments: 97.66 acres; steep rolling and wooded; no utilities

Tracts 5203 and 5204

Barkley Lake, Kentucky and Tennessee

Linton Co: Trigg KY 42212

Location: Village of Linton, KY state highway 1254

Property Number: 31199010058

Status: Excess

Comments: 0.93 acres; rolling, partially wooded; no utilities

Tract 5240

Barkley Lake, Kentucky and Tennessee

Linton Co: Trigg KY 42212

Location: 1 mile northwest of Linton, KY

Property Number: 31199010059

Status: Excess

Comments: 2.26 acres; steep and wooded; no utilities

Tract 4628

Barkley Lake, Kentucky and Tennessee

Canton Co: Trigg KY 42212

Location: 4½ miles south from Canton, KY

Property Number: 31199011621

Status: Excess

Comments: 3.71 acres; steep and wooded; subject to utility easements

Tract 4619-B

Barkley Lake, Kentucky and Tennessee

Canton Co: Trigg KY 42212

Location: 4½ miles south from Canton, KY

Property Number: 31199011622

Status: Excess

Comments: 1.73 acres; steep and wooded; subject to utility easements

Tract 2403-B

Barkley Lake, Kentucky and Tennessee

Eddyville Co: Lyon KY 42038

Location: 7 miles southeasterly from Eddyville, KY

Property Number: 31199011623

Status: Unutilized

Comments: 0.70 acres, wooded; subject to utility easements

Tract 241-B

Barkley Lake, Kentucky and Tennessee

Grand Rivers Co: Lyon KY 42045

Location: South of Old Henson Ferry Road, 6 miles west of Kuttawa, KY

Property Number: 31199011624

Status: Excess

Comments: 11.16 acres; steep and wooded; subject to utility easements

Tracts 212 and 237

Barkley Lake, Kentucky and Tennessee

Grand Rivers Co: Lyon KY 42045

Location: Old Henson Ferry Road, 6 miles west of Kuttawa, KY

Property Number: 31199011625

Status: Excess

Comments: 2.44 acres; steep and wooded; subject to utility easements

Tract 215-B

Barkley Lake, Kentucky and Tennessee

Grand Rivers Co: Lyon KY 42045

Location: 5 miles southwest of Kuttawa

Property Number: 31199011626

Status: Excess

Comments: 1.00 acres; wooded; subject to utility easements

Tract 233

Barkley Lake, Kentucky and Tennessee

Grand Rivers Co: Lyon KY 42045

Location: 5 miles southwest of Kuttawa

Property Number: 31199011627

Status: Excess

Comments: 1.00 acres; wooded; subject to utility easements

Tract N-819

Dale Hollow Lake Project

Illwill Creek, Hwy 90

Hobart Co: Clinton KY 42601

Property Number: 31199140009

Status: Underutilized

Comments: 91 acres, most recent use—hunting, subject to existing easements

Montana

Building

Bldg. 1

Butte Natl Guard

Butte Co: Silverbow MT 59701

Property Number: 31200040010

Status: Unutilized

Comments: 22799 sq. ft., presence of asbestos, most recent use—cold storage, off-site use only

Bldg. 2

Butte Natl Guard

Butte Co: Silverbow MT 59701

Property Number: 31200040011

Status: Unutilized

Comments: 3292 sq. ft., most recent use—cold storage, off-site use only

Bldg. 3

Butte Natl Guard

Butte Co: Silverbow MT 59701

Property Number: 31200040012

Status: Unutilized

Comments: 964 sq. ft., most recent use—cold storage, off-site use only

Bldg. 4

Butte Natl Guard

Butte Co: Silverbow MT 59701

Property Number: 31200040013

Status: Unutilized

Comments: 72 sq. ft., most recent use—cold storage, off-site use only

Bldg. 5

Butte Natl Guard

Butte Co: Silverbow MT 59701

Property Number: 31200040014

Status: Unutilized

Comments: 1286 sq. ft., most recent use—cold storage, off-site use only

Ohio

Building

Barker Historic House

Willow Island Locks and Dam

Newport Co: Washington OH 45768-9801

Location: Located at lock site, downstream of lock and dam structure

Property Number: 31199120018

Status: Unutilized

Comments: 1600 sq. ft. bldg. with ½ acre of land, 2 story brick frame, needs rehab, on Natl Register of Historic Places, no utilities, off-site use only

Oklahoma

Land

Pine Creek Lake

Section 27

(See County) Co: McCurtain OK

Property Number: 31199010923

Status: Unutilized

Comments: 3 acres; no utilities; subject to right of way for Oklahoma State Highway 3.

Pennsylvania

Building

Mahoning Creek Reservoir

New Bethlehem Co: Armstrong PA 16242

Property Number: 31199210008

Status: Unutilized

Comments: 1015 sq. ft., 2 story brick residence, off-site use only

Dwelling

Lock 6, Allegheny River, 1260 River Rd.

Freeport Co: Armstrong PA 16229-2023

Property Number: 31199620008

Status: Unutilized

Comments: 2652 sq. ft., 3-story brick house, in close proximity to Lock and Dam, available for interim use for nonresidential purposes

Dwelling

Lock 4, Allegheny River

Natrona Co: Allegheny PA 15065-2609

Property Number: 31199710009

Status: Unutilized

Comments: 1664 sq. ft., 2-story brick residence, needs repair, off-site use only

Dwelling #1

Crooked Creek Lake

Ford City Co: Armstrong PA 16226-8815

Property Number: 31199740002

Status: Excess

Comments: 2030 sq. ft., most recent use—residential, good condition, off-site use only

Dwelling #2

Crooked Creek Lake

Ford City Co: Armstrong PA 16226-8815

Property Number: 31199740003

Status: Excess

Comments: 3045 sq. ft., most recent use—residential, good condition, off-site use only

Govt Dwelling

East Branch Lake

Wilcox Co: Elk PA 15870-9709

Property Number: 31199740005

Status: Underutilized

Comments: approx. 5299 sq. ft., 1-story, most recent use—residence, off-site use only

Dwelling #1

Loyalhanna Lake

Saltsburg Co: Westmoreland PA 15681-9302

Property Number: 31199740006

Status: Excess

Comments: 1996 sq. ft., most recent use—residential, good condition, off-site use only

Dwelling #2

Loyalhanna Lake

Saltsburg Co: Westmoreland PA 15681-9302

Property Number: 31199740007

Status: Excess

Comments: 1996 sq. ft., most recent use—residential, good condition, off-site use only

Dwelling #2

Lock 6, 1260 River Road

Freeport Co: Armstrong PA 16229-2023

Property Number: 31199740009

Status: Excess

Comments: 2652 sq. ft., most recent use—residential, good condition, off-site use only

Residence A

2045 Pohopoco Drive

Lehighton Co: Carbon PA 18235

Property Number: 31200410007

Status: Unutilized

Comments: 1200 sq. ft., presence of asbestos, off-site use only

Land

Mahoning Creek Lake

New Bethlehem Co: Armstrong PA 16242-9603

Location: Route 28 north to Belknap, Road #4

Property Number: 31199010018

Status: Excess

Comments: 2.58 acres; steep and densely wooded

Tracts 610, 611, 612

Shenango River Lake

Sharpsville Co: Mercer PA 16150

Location: I-79 North, I-80 West, Exit Sharon. R18 North 4 miles, left on R518, right on Mercer Avenue

Property Number: 31199011001

Status: Excess

Comments: 24.09 acres; subject to flowage easement

Tracts L24, L26

Crooked Creek Lake

null Co: Armstrong PA 03051

Location: Left bank—55 miles downstream of dam

Property Number: 31199011011

Status: Unutilized

Comments: 7.59 acres; potential for utilities

Portion of Tract L-21A

Crooked Creek Lake, LR 03051

Ford City Co: Armstrong PA 16226

Property Number: 31199430012

Status: Unutilized

Comments: Approximately 1.72 acres of undeveloped land, subject to gas rights

South Dakota

Land

Portion/Tract A127

Gavins Point Dam

Yankton SD

Property Number: 31200940001

Status: Unutilized

Comments: 0.3018 acre, road right of way

Tennessee

Land

Tract 6827

Barkley Lake

Dover Co: Stewart TN 37058

Location: 2½ miles west of Dover, TN

Property Number: 31199010927

Status: Excess

Comments: .57 acres; subject to existing easements

Tracts 6002-2 and 6010

Barkley Lake

Dover Co: Stewart TN 37058

Location: 3½ miles south of village of Tabaccoport

Property Number: 31199010928

Status: Excess

Comments: 100.86 acres; subject to existing easements

Tract 11516

Barkley Lake

Ashland City Co: Dickson TN 37015

Location: ½ mile downstream from Cheatham Dam

Property Number: 31199010929

Status: Excess

Comments: 26.25 acres; subject to existing easements

Tract 2319

J. Percy Priest Dam and Reservoir

Murfreesboro Co: Rutherford TN 37130

Location: West of Buckeye Bottom Road

Property Number: 31199010930

Status: Excess

Comments: 14.48 acres; subject to existing easements

Tract 2227

J. Percy Priest Dam and Reservoir

Murfreesboro Co: Rutherford TN 37130

Location: Old Jefferson Pike

Property Number: 31199010931

Status: Excess

Comments: 2.27 acres; subject to existing easements

Tract 2107

J. Percy Priest Dam and Reservoir

Murfreesboro Co: Rutherford TN 37130

Location: Across Fall Creek near Fall Creek camping area

Property Number: 31199010932

Status: Excess

Comments: 14.85 acres; subject to existing easements

Tracts 2601, 2602, 2603, 2604

Cordell Hull Lake and Dam Project

Doe Row Creek

Gainesboro Co: Jackson TN 38562

Location: TN Highway 56

Property Number: 31199010933

Status: Unutilized

Comments: 11 acres; subject to existing easements

Tract 1911

J. Percy Priest Dam and Reservoir

Murfreesboro Co: Rutherford TN 37130

Location: East of Lamar Road

Property Number: 31199010934

Status: Excess

Comments: 6.92 acres; subject to existing easements

Tract 7206

Barkley Lake

Dover Co: Stewart TN 37058

Location: 2½ miles SE of Dover, TN

Property Number: 31199010936

Status: Excess

Comments: 10.15 acres; subject to existing easements

Tracts 8813, 8814

Barkley Lake

Cumberland Co: Stewart TN 37050

Location: 1½ miles East of Cumberland City

Property Number: 31199010937

Status: Excess

Comments: 96 acres; subject to existing easements

Tract 8911

Barkley Lake

Cumberland City Co: Montgomery TN 37050

Location: 4 miles east of Cumberland City

Property Number: 31199010938

Status: Excess

Comments: 7.7 acres; subject to existing easements

Tract 11503

Barkley Lake

Ashland City Co: Cheatham TN 37015

Location: 2 miles downstream from Cheatham Dam

Property Number: 31199010939

Status: Excess

Comments: 1.1 acres; subject to existing easements

Tracts 11523, 11524

Barkley Lake

Ashland City Co: Cheatham TN 37015

Location: 2½ miles downstream from Cheatham Dam

Property Number: 31199010940

Status: Excess

Comments: 19.5 acres; subject to existing easements

Tract 6410

Barkley Lake

Bumpus Mills Co: Stewart TN 37028

Location: 4½ miles SW. of Bumpus Mills

Property Number: 31199010941

Status: Excess

Comments: 17 acres; subject to existing easements

Tract 9707

Barkley Lake

Palmyer Co: Montgomery TN 37142

Location: 3 miles NE of Palmyer, TN. Highway 149

Property Number: 31199010943

Status: Excess

Comments: 6.6 acres; subject to existing easements

Tract 6949

Barkley Lake

Dover Co: Stewart TN 37058

Location: 1½ miles SE of Dover, TN

Property Number: 31199010944

Status: Excess

Comments: 29.67 acres; subject to existing easements

Tracts 6005 and 6017

Barkley Lake

Dover Co: Stewart TN 37058

Location: 3 miles south of Village of Tobaccoport

Property Number: 31199011173

Status: Excess

Comments: 5 acres; subject to existing easements

Tracts K-1191, K-1135

Old Hickory Lock and Dam

Hartsville Co: Trousdale TN 37074

Property Number: 31199130007

Status: Underutilized

Comments: 54 acres, (portion in floodway), most recent use—recreation

Tract A-102

Dale Hollow Lake Project

Canoe Ridge, State Hwy 52

Celina Co: Clay TN 38551

Property Number: 31199140006

Status: Underutilized

Comments: 351 acres, most recent use—hunting, subject to existing easements

Tract A-120

Dale Hollow Lake Project

Swann Ridge, State Hwy No. 53

Celina Co: Clay TN 38551

Property Number: 31199140007

Status: Underutilized

Comments: 883 acres, most recent use—hunting, subject to existing easements

Tract D-185

Dale Hollow Lake Project

Ashburn Creek, Hwy No. 53

Livingston Co: Clay TN 38570

Property Number: 31199140010

Status: Underutilized

Comments: 97 acres, most recent use—hunting, subject to existing easements

GSA

Massachusetts

Building

Navy Oper. Support Center

640 Plantation St.

Worcester MA 01605

Property Number: 54200940007

Status: Excess

Comments: 36,580 sq. ft. w/6 acres, presence of asbestos/lead paint, most recent use—training facility

GSA Number: 1-N-MA-0918

Missouri

Land

Tract LLWAS K3

Mexico City Ave.

Kansas City MO 64153

Property Number: 54200940004

Status: Surplus

Comments: 0.034 w/easements

GSA Number: 7-U-MO-0687AA

Montana

Building

Admin Site/Warehouse

731 1st Ave, South

Glasgow MT 59230

Property Number: 54200940002

Status: Excess

Comments: 1600 sq. ft., most recent use—office/storage

GSA Number: 7-I-MT-0631

Bldg. 743

Glacier National Park

West Glacier MT 59921

Property Number: 54200940005

Status: Surplus

Comments: 678 sq. ft., most recent use—dormitory, off-site use only

GSA Number: 7-I-MT-0544-AB

Bldg. 744

Glacier National Park

West Glacier MT 59936

Property Number: 54200940006

Status: Surplus

Comments: 1812 sq. ft., most recent use—dormitory, off-site use only

GSA Number: 7-I-MT-0544AA

VA

Alabama

Land

VA Medical Center

VAMC

Tuskegee Co: Macon AL 36083

Property Number: 97199010053

Status: Underutilized

Comments: 40 acres, buffer to VA Medical Center, potential utilities, undeveloped

Colorado

Building

Bldg. 2

VAMC

2121 North Avenue

Grand Junction Co: Mesa CO 81501

Property Number: 97200430001

Status: Unutilized

Comments: 3298 sq. ft., needs major rehab, presence of asbestos/lead paint

Bldg. 3

VAMC

2121 North Avenue

Grand Junction Co: Mesa CO 81501

Property Number: 97200430002

Status: Unutilized

Comments: 7275 sq. ft., needs major rehab, presence of asbestos/lead paint

Indiana

Building

Bldg. 105, VAMC

East 38th Street

Marion Co: Grant IN 46952

Property Number: 97199230006

Status: Excess

Comments: 310 sq. ft., 1 story stone structure, no sanitary or heating facilities, Natl Register of Historic Places

Bldg. 10

VA Northern Indiana Health Care System

Marion Campus, 1700 East 38th Street Marion Co: Grant IN 46953

Property Number: 97199810002

Status: Underutilized

Comments: 16,361 sq. ft., presence of asbestos, most recent use—psychiatric ward, National Register of Historic Places

Bldg. 11

VA Northern Indiana Health Care System

Marion Campus, 1700 East 38th Street Marion Co: Grant IN 46953

Property Number: 97199810003

Status: Underutilized

Comments: 16,361 sq. ft., presence of asbestos, most recent use—psychiatric ward, National Register of Historic Places

Bldg. 18

VA Northern Indiana Health Care System

Marion Campus, 1700 East 38th Street

Marion Co: Grant IN 46953

Property Number: 97199810004

Status: Underutilized

Comments: 13,802 sq. ft., presence of asbestos, most recent use—psychiatric ward, National Register of Historic Places

Bldg. 25

VA Northern Indiana Health Care System

Marion Campus, 1700 East 38th Street

Marion Co: Grant IN 46953

Property Number: 97199810005

Status: Unutilized

Comments: 32,892 sq. ft., presence of asbestos, most recent use—psychiatric ward, National Register of Historic Places

Bldg. 1

N. Indiana Health Care System

Marion Co: Grant IN 46952

Property Number: 97200310001

Status: Unutilized

Comments: 20,287 sq. ft., needs extensive repairs, presence of asbestos, most recent use—patient ward

Bldg. 3

N. Indiana Health Care System

Marion Co: Grant IN 46952

Property Number: 97200310002

Status: Unutilized

Comments: 20,550 sq. ft., needs extensive repairs, presence of asbestos, most recent use—patient ward

Bldg. 4

N. Indiana Health Care System

Marion Co: Grant IN 46952

Property Number: 97200310003

Status: Unutilized

Comments: 20,550 sq .ft., needs extensive repairs, presence of asbestos, most recent use—patient ward

Bldg. 13

N. Indiana Health Care System

Marion Co: Grant IN 46952

Property Number: 97200310004

Status: Unutilized

Comments: 8971 sq. ft., needs extensive repairs, presence of asbestos, most recent use—office

Bldg. 42

N. Indiana Health Care System

Marion Co: Grant IN 46952

Property Number: 97200310007

Status: Unutilized

Comments: 5025 sq. ft., needs extensive repairs, presence of asbestos, most recent use—office

Bldg. 60

N. Indiana Health Care System

Marion Co: Grant IN 46952

Property Number: 97200310008

Status: Unutilized

Comments: 18,126 sq. ft., needs extensive repairs, presence of asbestos, most recent use—office

Bldg. 122

N. Indiana Health Care System

Marion Co: Grant IN 46952

Property Number: 97200310009

Status: Unutilized

Comments: 37,135 sq. ft., needs extensive repairs, presence of asbestos, most recent use—dining hall/kitchen

Iowa

Land

40.66 acres

VA Medical Center

1515 West Pleasant St.

Knoxville Co: Marion IA 50138

Property Number: 97199740002

Status: Unutilized

Comments: Golf course, easement requirements

New York

Building

Bldg. 3

VA Medical Center

Batavia Co: Genesee NY 14020

Property Number: 97200520001

Status: Unutilized

Comments: 5840 sq. ft., needs rehab, presence of asbestos, most recent use—offices, eligible for Natl Register of Historic Places

Texas

Land

Land

Olin E. Teague Veterans Center

1901 South 1st Street

Temple Co: Bell TX 76504

Property Number: 97199010079

Status: Underutilized

Comments: 13 acres, portion formerly landfill, portion near flammable materials, railroad crosses property, potential utilities

Wisconsin

Land

VA Medical Center

County Highway E

Tomah Co: Monroe WI 54660

Property Number: 97199010054

Status: Underutilized

Comments: 12.4 acres, serves as buffer between center and private property, no utilities

TITLE V PROPERTIES REPORTED IN YEAR 2009 WHICH ARE SUITABLE AND UNAVAILABLE

Air Force

South Dakota

Land

Tract 133

Ellsworth AFB

Box Elder Co: Pennington SD 57706

Property Number: 18200310004

Status: Unutilized

Reason: Special Legislation

Tract 67

Ellsworth AFB

Box Elder Co: Pennington SD 57706

Property Number: 18200310005

Status: Unutilized

Reason: Mission purpose

Washington

Building

Bldg. 404/Geiger Heights

Fairchild AFB

Spokane WA 99224

Property Number: 18200420002

Status: Unutilized

Reason: Mission effort

11 Bldgs./Geiger Heights

Fairchild AFB

Spokane WA 99224

Property Number: 18200420003

Status: Unutilized

Reason: Mission effort

Bldg. 297/Geiger Heights

Fairchild AFB

Spokane WA 99224

Property Number: 18200420004

Status: Unutilized

Reason: Mission effort

9 Bldgs./Geiger Heights

Fairchild AFB

Spokane WA 99224

Property Number: 18200420005

Status: Unutilized

Reason: Mission effort

22 Bldgs./Geiger Heights

Fairchild AFB

Spokane WA 99224

Property Number: 18200420006

Status: Unutilized

Reason: Mission effort

51 Bldgs./Geiger Heights

Fairchild AFB

Spokane WA 99224

Property Number: 18200420007

Status: Unutilized

Reason: Mission effort

Bldg. 402/Geiger Heights

Fairchild AFB

Spokane WA 99224

Property Number: 18200420008

Status: Unutilized

Reason: Mission effort

5 Bldgs./Geiger Heights

Fairchild AFB

222, 224, 271, 295, 260

Spokane WA 99224

Property Number: 18200420009

Status: Unutilized

Reason: Mission effort

5 Bldgs./Geiger Heights

Fairchild AFB

102, 183, 118, 136, 113

Spokane WA 99224

Property Number: 18200420010

Status: Unutilized

Reason: Mission effort

Army

Alabama

Building

Bldg. 01433

Fort Rucker

Ft. Rucker Co: Dale AL 36362

Property Number: 21200220098

Status: Excess

Reason: Being utilized

Bldg. 30105

Fort Rucker

Ft. Rucker Co: Dale AL 36362

Property Number: 21200510052

Status: Excess

Reason: Occupied

Bldg. 40115

Fort Rucker

Ft. Rucker Co: Dale AL 36362

Property Number: 21200510053

Status: Excess

Reason: Occupied

Bldg. 25303

Fort Rucker

Dale AL 36362

Property Number: 21200520074

Status: Excess

Reason: Occupied

Bldg. 25304

Fort Rucker

Dale AL 36362

Property Number: 21200520075

Status: Excess

Reason: Occupied

Arizona

Building

Bldg. 22529

Fort Huachuca

Cochise AZ 85613-7010

Property Number: 21200520077

Status: Excess

Reason: Occupied

Bldg. 22541

Fort Huachuca

Cochise AZ 85613-7010

Property Number: 21200520078

Status: Excess

Reason: Occupied

Bldg. 30020

Fort Huachuca

Cochise AZ 85613-7010

Property Number: 21200520079

Status: Excess

Reason: Occupied

Bldg. 30021

Fort Huachuca

Cochise AZ 85613-7010

Property Number: 21200520080

Status: Excess

Reason: Occupied

Bldg. 22040

Fort Huachuca

Cochise AZ 85613

Property Number: 21200540076

Status: Excess

Reason: Occupied

Bldg. 22540

Fort Huachuca

Cochise AZ 85613-7010

Property Number: 21200620067

Status: Excess

Reason: Occupied

Colorado

Building

Bldg. S6264

Fort Carson

Ft. Carson Co: El Paso CO 80913

Property Number: 21200340084

Status: Unutilized

Reason: Occupied

Bldg. S6285

Fort Carson

Ft. Carson Co: El Paso CO 80913

Property Number: 21200420176

Status: Unutilized

Reason: In use

Bldg. S6287

Fort Carson

Ft. Carson Co: El Paso CO 80913

Property Number: 21200420177

Status: Unutilized

Reason: In use

Bldg. 06225

Fort Carson

El Paso CO 80913-4001

Property Number: 21200520084

Status: Unutilized

Reason: Occupied

Georgia

Building

Bldg. T201

Hunter Army Airfield

Garrison Co: Chatham GA 31409

Property Number: 21200420002

Status: Excess

Reason: In use

Bldg. T234

Hunter Army Airfield

Garrison Co: Chatham GA 31409

Property Number: 21200420008

Status: Excess

Reason: In use

Bldg. T702

Hunter Army Airfield

Garrison Co: Chatham GA 31409

Property Number: 21200420010

Status: Excess

Reason: In use

Bldg. T703

Hunter Army Airfield

Garrison Co: Chatham GA 31409

Property Number: 21200420011

Status: Excess

Reason: In use

Bldg. T704

Hunter Army Airfield

Garrison Co: Chatham GA 31409

Property Number: 21200420012

Status: Excess

Reason: In use

Bldg. P813

Hunter Army Airfield

Garrison Co: Chatham GA 31409

Property Number: 21200420013

Status: Excess

Reason: In use

Bldgs. S843, S844, S845

Hunter Army Airfield

Garrison Co: Chatham GA 31409

Property Number: 21200420014

Status: Excess

Reason: In use

Bldg. P925

Hunter Army Airfield

Garrison Co: Chatham GA 31409

Property Number: 21200420015

Status: Excess

Reason: In use

Bldg. P1277

Hunter Army Airfield

Garrison Co: Chatham GA 31409

Property Number: 21200420024

Status: Excess

Reason: In use

Bldg. T1412

Hunter Army Airfield

Garrison Co: Chatham GA 31409

Property Number: 21200420025

Status: Excess

Reason: In use

Bldg. 8658

Hunter Army Airfield

Garrison Co: Chatham GA 31409

Property Number: 21200420029

Status: Excess

Reason: In use

Bldg. 8659

Hunter Army Airfield

Garrison Co: Chatham GA 31409

Property Number: 21200420030

Status: Excess

Reason: In use

Bldgs. 8675, 8676

Hunter Army Airfield

Garrison Co: Chatham GA 31409

Property Number: 21200420031

Status: Excess

Reason: In use

Bldg. 5978

Fort Benning

Ft. Benning Co: Chattachoochee GA 31905

Property Number: 21200420038

Status: Excess

Reason: In use

Bldg. 5993

Fort Benning

Ft. Benning Co: Chattachoochee GA 31905

Property Number: 21200420041

Status: Excess

Reason: In use

Bldg. 5994

Fort Benning

Ft. Benning Co: Chattachoochee GA 31905

Property Number: 21200420042

Status: Excess

Reason: In use

Bldg. 5995

Fort Benning

Ft. Benning Co: Chattachoochee GA 31905

Property Number: 21200420043

Status: Excess

Reason: In use

Bldg. T01

Fort Stewart

Ft. Stewart Co: Liberty GA 31314

Property Number: 21200420181

Status: Excess

Reason: In use

Bldg. T04

Fort Stewart

Ft. Stewart Co: Liberty GA 31314

Property Number: 21200420182

Status: Excess

Reason: In use

Bldg. T05

Fort Stewart

Ft. Stewart Co: Liberty GA 31314

Property Number: 21200420183

Status: Excess

Reason: In use

Bldg. T06

Fort Stewart

Ft. Stewart Co: Liberty GA 31314

Property Number: 21200420184

Status: Excess

Reason: In use

Bldg. T55

Fort Stewart

Ft. Stewart Co: Liberty GA 31314

Property Number: 21200420187

Status: Excess

Reason: In use

Bldg. T85

Fort Stewart

Ft. Stewart Co: Liberty GA 31314

Property Number: 21200420188

Status: Excess

Reason: In use

Bldg. T131

Fort Stewart

Ft. Stewart Co: Liberty GA 31314

Property Number: 21200420189

Status: Excess

Reason: In use

Bldg. T132

Fort Stewart

Ft. Stewart Co: Liberty GA 31314

Property Number: 21200420190

Status: Excess

Reason: In use

Bldg. T157

Fort Stewart

Ft. Stewart Co: Liberty GA 31314

Property Number: 21200420191

Status: Excess

Reason: In use

Bldg. 01002

Fort Stewart

Ft. Stewart Co: Liberty GA 31314

Property Number: 21200420197

Status: Excess

Reason: In use

Bldg. 01003

Fort Stewart

Ft. Stewart Co: Liberty GA 31314

Property Number: 21200420198

Status: Excess

Reason: In use

Bldg. 19101

Fort Stewart

Ft. Stewart Co: Liberty GA 31314

Property Number: 21200420215

Status: Excess

Reason: In use

Bldg. 19102

Fort Stewart

Ft. Stewart Co: Liberty GA 31314

Property Number: 21200420216

Status: Excess

Reason: In use

Bldg. T19111

Fort Stewart

Ft. Stewart Co: Liberty GA 31314

Property Number: 21200420217

Status: Excess

Reason: In use

Bldg. 19112

Fort Stewart

Ft. Stewart Co: Liberty GA 31314

Property Number: 21200420218

Status: Excess

Reason: In use

Bldg. 19113

Fort Stewart

Ft. Stewart Co: Liberty GA 31314

Property Number: 21200420219

Status: Excess

Reason: In use

Bldg. T19201

Fort Stewart

Ft. Stewart Co: Liberty GA 31314

Property Number: 21200420220

Status: Excess

Reason: In use

Bldg. 19202

Fort Stewart

Ft. Stewart Co: Liberty GA 31314

Property Number: 21200420221

Status: Excess

Reason: In use

Bldg. 19204 thru 19207

Fort Stewart

Ft. Stewart Co: Liberty GA 31314

Property Number: 21200420222

Status: Excess

Reason: In use

Bldgs. 19208 thru 19211

Fort Stewart

Ft. Stewart Co: Liberty GA 31314

Property Number: 21200420223

Status: Excess

Reason: In use

Bldg. 19212

Fort Stewart

Ft. Stewart Co: Liberty GA 31314

Property Number: 21200420224

Status: Excess

Reason: In use

Bldg. 19213

Fort Stewart

Ft. Stewart Co: Liberty GA 31314

Property Number: 21200420225

Status: Excess

Reason: In use

Bldg. 19214

Fort Stewart

Ft. Stewart Co: Liberty GA 31314

Property Number: 21200420226

Status: Excess

Reason: In use

Bldg. 19215

Fort Stewart

Ft. Stewart Co: Liberty GA 31314

Property Number: 21200420227

Status: Excess

Reason: In use

Bldg. 19216

Fort Stewart

Ft. Stewart Co: Liberty GA 31314

Property Number: 21200420228

Status: Excess

Reason: In use

Bldg. 19217

Fort Stewart

Ft. Stewart Co: Liberty GA 31314

Property Number: 21200420229

Status: Excess

Reason: In use

Bldg. 19218

Fort Stewart

Ft. Stewart Co: Liberty GA 31314

Property Number: 21200420230

Status: Excess

Reason: In use

Bldgs. 19219, 19220

Fort Stewart

Ft. Stewart Co: Liberty GA 31314

Property Number: 21200420231

Status: Excess

Reason: In use

Bldg. 19223

Fort Stewart

Ft. Stewart Co: Liberty GA 31314

Property Number: 21200420232

Status: Excess

Reason: In use

Bldg. 19225

Fort Stewart

Ft. Stewart Co: Liberty GA 31314

Property Number: 21200420233

Status: Excess

Reason: In use

Bldg. 19226

Fort Stewart

Ft. Stewart Co: Liberty GA 31314

Property Number: 21200420234

Status: Excess

Reason: In use

Bldg. T19228

Fort Stewart

Ft. Stewart Co: Liberty GA 31314

Property Number: 21200420235

Status: Excess

Reason: In use

Bldg. 19229

Fort Stewart

Ft. Stewart Co: Liberty GA 31314

Property Number: 21200420236

Status: Excess

Reason: In use

Bldg. 19232

Fort Stewart

Ft. Stewart Co: Liberty GA 31314

Property Number: 21200420237

Status: Excess

Reason: In use

Bldg. 19233

Fort Stewart

Ft. Stewart Co: Liberty GA 31314

Property Number: 21200420238

Status: Excess

Reason: In use

Bldg. 19236

Fort Stewart

Ft. Stewart Co: Liberty GA 31314

Property Number: 21200420239

Status: Excess

Reason: In use

Bldg. 19238

Fort Stewart

Ft. Stewart Co: Liberty GA 31314

Property Number: 21200420240

Status: Excess

Reason: In use

Bldg. 01674

Fort Benning

Ft. Benning Co: Chattachoochee GA 31905

Property Number: 21200510056

Status: Unutilized

Reason: Occupied

Bldg. 01675

Fort Benning

Ft. Benning Co: Chattachoochee GA 31905

Property Number: 21200510057

Status: Unutilized

Reason: Occupied

Bldg. 01676

Fort Benning

Ft. Benning Co: Chattachoochee GA 31905

Property Number: 21200510058

Status: Unutilized

Reason: Occupied

Bldg. 01677

Fort Benning

Ft. Benning GA 31905

Property Number: 21200510059

Status: Unutilized

Reason: Occupied

Bldg. 01678

Fort Benning

Ft. Benning Co: Chattachoochee GA 31905

Property Number: 21200510060

Status: Unutilized

Reason: Occupied

Bldg. 00051

Fort Stewart

Liberty GA 31314

Property Number: 21200520087

Status: Excess

Reason: Occupied

Bldg. 00052

Fort Stewart

Liberty GA 31314

Property Number: 21200520088

Status: Excess

Reason: Occupied

Bldg. 00053

Fort Stewart

Liberty GA 31314

Property Number: 21200520089

Status: Excess

Reason: Occupied

Bldg. 00054

Fort Stewart

Liberty GA 31314

Property Number: 21200520090

Status: Excess

Reason: Occupied

Bldg. 01243

Hunter Army Airfield

Savannah Co: Chatham GA 31409

Property Number: 21200610040

Status: Excess

Reason: Occupied

Bldg. 01244

Hunter Army Airfield

Savannah Co: Chatham GA 31409

Property Number: 21200610041

Status: Excess

Reason: Occupied

Bldg. 01318

Hunter Army Airfield

Savannah Co: Chatham GA 31409

Property Number: 21200610042

Status: Excess

Reason: Occupied

Bldg. 00612

Fort Stewart

Liberty GA 31314

Property Number: 21200610043

Status: Excess

Reason: Occupied

Bldg. 00614

Fort Stewart

Liberty GA 31314

Property Number: 21200610044

Status: Excess

Reason: Occupied

Bldg. 00618

Fort Stewart

Liberty GA 31314

Property Number: 21200610045

Status: Excess

Reason: Occupied

Bldg. 00628

Fort Stewart

Liberty GA 31314

Property Number: 21200610046

Status: Excess

Reason: Occupied

Bldg. 01079

Fort Stewart

Liberty GA 31314

Property Number: 21200610047

Status: Excess

Reason: Occupied

Bldg. 07901

Fort Stewart

Liberty GA 31314

Property Number: 21200610049

Status: Excess

Reason: Occupied

Bldg. 08031

Fort Stewart

Liberty GA 31314

Property Number: 21200610050

Status: Excess

Reason: Occupied

Bldg. 08081

Fort Stewart

Liberty GA 31314

Property Number: 21200610052

Status: Excess

Reason: Occupied

Bldg. 08252

Fort Stewart

Liberty GA 31314

Property Number: 21200610053

Status: Excess

Reason: Occupied

Kentucky

Building

Bldg. 06894

Fort Campbell

Christian KY 42223

Property Number: 21200630070

Status: Unutilized

Reason: Mission use

Bldg. 06895

Fort Campbell

Christian KY 42223

Property Number: 21200630071

Status: Unutilized

Reason: Mission use

Louisiana

Building

Bldg. T401

Fort Polk

Ft. Polk LA 71459

Property Number: 21200540084

Status: Unutilized

Reason: Occupied

Bldgs. T406, T407, T411

Fort Polk

Ft. Polk LA 71459

Property Number: 21200540085

Status: Unutilized

Reason: Occupied

Bldg. T412

Fort Polk

Ft. Polk LA 71459

Property Number: 21200540086

Status: Unutilized

Reason: Occupied

Bldgs. T414, T421

Fort Polk

Ft. Polk LA 71459

Property Number: 21200540087

Status: Unutilized

Reason: Occupied

Maryland

Building

Bldg. 8608

Fort George G. Meade

Ft. Meade MD 20755-5115

Property Number: 21200410099

Status: Unutilized

Reason: Occupied

Bldg. 8612

Fort George G. Meade

Ft. Meade MD 20755-5115

Property Number: 21200410101

Status: Unutilized

Reason: Occupied

Bldg. 0001A

Federal Support Center

Olney Co: Montgomery MD 20882

Property Number: 21200520114

Status: Unutilized

Reason: Occupied

Bldg. 0001C

Federal Support Center

Olney Co: Montgomery MD 20882

Property Number: 21200520115

Status: Unutilized

Reason: Occupied

Bldgs. 00032, 00H14, 00H24

Federal Support Center

Olney Co: Montgomery MD 20882

Property Number: 21200520116

Status: Unutilized

Reason: Occupied

Bldgs. 00034, 00H016

Federal Support Center

Olney Co: Montgomery MD 20882

Property Number: 21200520117

Status: Unutilized

Reason: Occupied

Bldgs. 00H10, 00H12

Federal Support Center

Olney Co: Montgomery MD 20882

Property Number: 21200520118

Status: Unutilized

Reason: Occupied

Michigan

Building

Bldg. 00001

Sheridan Hall USARC

501 Euclid Avenue

Helena Co: Lewis MI 59601-2865

Property Number: 21200510066

Status: Unutilized

Reason: Federal interest

Missouri

Building

Bldg. 1230

Fort Leonard Wood

Ft. Leonard Wood Co: Pulaski MO 65743-8944

Property Number: 21200340087

Status: Unutilized

Reason: Occupied

Bldg. 1621

Fort Leonard Wood

Ft. Leonard Wood Co: Pulaski MO 65743-8944

Property Number: 21200340088

Status: Unutilized

Reason: Occupied

Bldg. 5760

Fort Leonard Wood

Ft. Leonard Wood Co: Pulaski MO 65743-8944

Property Number: 21200410102

Status: Unutilized

Reason: Occupied

Bldg. 5762

Fort Leonard Wood

Ft. Leonard Wood Co: Pulaski MO 65743-8944

Property Number: 21200410103

Status: Unutilized

Reason: Occupied

Bldg. 5763

Fort Leonard Wood

Ft. Leonard Wood Co: Pulaski MO 65743-8944

Property Number: 21200410104

Status: Unutilized

Reason: Occupied

Bldg. 5765

Fort Leonard Wood

Ft. Leonard Wood Co: Pulaski MO 65743-8944

Property Number: 21200410105

Status: Unutilized

Reason: Occupied

Bldg. 5760

Fort Leonard Wood

Ft. Leonard Wood Co: Pulaski MO 65743-8944

Property Number: 21200420059

Status: Unutilized

Reason: In use

Bldg. 5762

Fort Leonard Wood

Ft. Leonard Wood Co: Pulaski MO 65743-8944

Property Number: 21200420060

Status: Unutilized

Reason: In use

Bldg. 5763

Fort Leonard Wood

Ft. Leonard Wood Co: Pulaski MO 65743-8944

Property Number: 21200420061

Status: Unutilized

Reason: In use

Bldg. 5765

Fort Leonard Wood

Ft. Leonard Wood Co: Pulaski MO 65743-8944

Property Number: 21200420062

Status: Unutilized

Reason: In use

Bldg. 00467

Fort Leonard Wood

Ft. Leonard Wood Co: Pulaski MO 65743

Property Number: 21200530085

Status: Unutilized

Reason: Occupied

New York

Building

Bldgs. 1511-1518

U.S. Military Academy

Training Area

Highlands Co: Orange NY 10996

Property Number: 21200320160

Status: Unutilized

Reason: Occupied

Bldgs. 1523-1526

U.S. Military Academy

Training Area

Highlands Co: Orange NY 10996

Property Number: 21200320161

Status: Unutilized

Reason: Occupied

Bldgs. 1704-1705, 1721-1722

U.S. Military Academy

Training Area

Highlands Co: Orange NY 10996

Property Number: 21200320162

Status: Unutilized

Reason: Occupied

Bldg. 1723

U.S. Military Academy

Training Area

Highlands Co: Orange NY 10996

Property Number: 21200320163

Status: Unutilized

Reason: Occupied

Bldgs. 1706-1709

U.S. Military Academy

Training Area

Highlands Co: Orange NY 10996

Property Number: 21200320164

Status: Unutilized

Reason: Occupied

Bldgs. 1731-1735

U.S. Military Academy

Training Area

Highlands Co: Orange NY 10996

Property Number: 21200320165

Status: Unutilized

Reason: Occupied

North Carolina

Building

Bldg. N4116

Fort Bragg

Ft. Bragg Co: Cumberland NC 28310

Property Number: 21200240087

Status: Excess

Reason: Mission use

Texas

Building

Bldgs. 4219, 4227

Fort Hood

Ft. Hood Co: Bell TX 76544

Property Number: 21200220139

Status: Unutilized

Reason: Admin use

Bldgs. 4229, 4230, 4231

Fort Hood

Ft. Hood Co: Bell TX 76544

Property Number: 21200220140

Status: Unutilized

Reason: Admin use

Bldgs. 4244, 4246

Fort Hood

Ft. Hood Co: Bell TX 76544

Property Number: 21200220141

Status: Unutilized

Reason: Admin use

Bldgs. 4260, 4261, 4262

Fort Hood

Ft. Hood Co: Bell TX 76544

Property Number: 21200220142

Status: Unutilized

Reason: Admin use

Bldg. 04335

Fort Hood

Bell TX 76544

Property Number: 21200440090

Status: Excess

Reason: Occupied

Bldg. 04465

Fort Hood

Bell TX 76544

Property Number: 21200440094

Status: Excess

Reason: Occupied

Bldg. 04468

Fort Hood

Bell TX 76544

Property Number: 21200440096

Status: Excess

Reason: Occupied

Bldgs. 04475-04476

Fort Hood

Bell TX 76544

Property Number: 21200440098

Status: Excess

Reason: Occupied

Bldg. 04477

Fort Hood

Bell TX 76544

Property Number: 21200440099

Status: Excess

Reason: Occupied

Bldg. 07002

Fort Hood

Bell TX 76544

Property Number: 21200440100

Status: Excess

Reason: Occupied

Bldg. 57001

Fort Hood

Bell TX 76544

Property Number: 21200440105

Status: Excess

Reason: Occupied

Bldgs. 125, 126

Fort Hood

Bell TX 76544

Property Number: 21200620075

Status: Excess

Reason: Occupied

Bldg. 190

Fort Hood

Bell TX 76544

Property Number: 21200620076

Status: Excess

Reason: Occupied

Bldg. 02240

Fort Hood

Bell TX 76544

Property Number: 21200620078

Status: Excess

Reason: Occupied

Bldg. 04164

Fort Hood

Bell TX 76544

Property Number: 21200620079

Status: Excess

Reason: Occupied

Bldgs. 04218, 04228

Fort Hood

Bell TX 76544

Property Number: 21200620080

Status: Excess

Reason: Occupied

Bldg. 04272

Fort Hood

Bell TX 76544

Property Number: 21200620081

Status: Excess

Reason: Not occupied

Bldg. 04415

Fort Hood

Bell TX 76544

Property Number: 21200620083

Status: Excess

Reason: Occupied

4 Bldgs

Fort Hood

04419, 04420, 04421, 04424

Bell TX 76544

Property Number: 21200620084

Status: Excess

Reason: Occupied

4 Bldgs.

Fort Hood

04425, 04426, 04427, 04429

Bell TX 76544

Property Number: 21200620085

Status: Excess

Reason: Occupied

Bldg. 04430

Fort Hood

Bell TX 76544

Property Number: 21200620087

Status: Excess

Reason: Occupied

Bldg. 04434

Fort Hood

Bell TX 76544

Property Number: 21200620088

Status: Excess

Reason: Occupied

Bldg. 04439

Fort Hood

Bell TX 76544

Property Number: 21200620089

Status: Excess

Reason: Occupied

Bldgs. 04470, 04471

Fort Hood

Bell TX 76544

Property Number: 21200620090

Status: Excess

Reason: Occupied

Bldg. 04493

Fort Hood

Bell TX 76544

Property Number: 21200620091

Status: Excess

Reason: Occupied

Bldg. 04494

Fort Hood

Bell TX 76544

Property Number: 21200620092

Status: Excess

Reason: Occupied

Bldg. 04632

Fort Hood

Bell TX 76544

Property Number: 21200620093

Status: Excess

Reason: Occupied

Bldg. 04640

Fort Hood

Bell TX 76544

Property Number: 21200620094

Status: Excess

Reason: Occupied

Bldg. 04645

Fort Hood

Bell TX 76544

Property Number: 21200620095

Status: Excess

Reason: Occupied

Bldg. 04906

Fort Hood

Bell TX 76544

Property Number: 21200620096

Status: Excess

Reason: Occupied

Bldg. 20121

Fort Hood

Bell TX 76544

Property Number: 21200620097

Status: Excess

Reason: Occupied

Bldg. 91052

Fort Hood

Bell TX 76544

Property Number: 21200620101

Status: Excess

Reason: Occupied

Bldg. 1345

Fort Hood

Bell TX 76544

Property Number: 21200740070

Status: Excess

Reason: Utilized

Bldgs. 1348, 1941

Fort Hood

Bell TX 76544

Property Number: 21200740071

Status: Excess

Reason: Utilized

Bldg. 1919

Fort Hood

Bell TX 76544

Property Number: 21200740072

Status: Excess

Reason: Utilized

Bldg. 1943

Fort Hood

Bell TX 76544

Property Number: 21200740073

Status: Excess

Reason: Utilized

Bldg. 1946

Fort Hood

Bell TX 76544

Property Number: 21200740074

Status: Excess

Reason: Utilized

Bldg. 4205

Fort Hood

Bell TX 76544

Property Number: 21200740075

Status: Excess

Reason: Utilized

Bldg. 4207

Fort Hood

Bell TX 76544

Property Number: 21200740076

Status: Excess

Reason: Utilized

Bldg. 4208

Fort Hood

Bell TX 76544

Property Number: 21200740077

Status: Excess

Reason: Utilized

Bldgs. 4210, 4211, 4216

Fort Hood

Bell TX 76544

Property Number: 21200740078

Status: Excess

Reason: Utilized

Bldg. 4219A

Fort Hood

Bell TX 76544

Property Number: 21200740079

Status: Excess

Reason: Utilized

Bldg. 04252

Fort Hood

Bell TX 76544

Property Number: 21200740081

Status: Excess

Reason: Utilized

Bldg. 4255

Fort Hood

Bell TX 76544

Property Number: 21200740082

Status: Excess

Reason: Utilized

Bldg. 04480

Fort Hood

Bell TX 76544

Property Number: 21200740083

Status: Excess

Reason: Utilized

Bldg. 04485

Fort Hood

Bell TX 76544

Property Number: 21200740084

Status: Excess

Reason: Utilized

Bldgs. 04487, 04488

Fort Hood

Bell TX 76544

Property Number: 21200740085

Status: Excess

Reason: Utilized

Bldg. 04489

Fort Hood

Ft. Hood TX 76544

Property Number: 21200740086

Status: Excess

Reason: Utilized

Bldgs. 4491, 4492

Fort Hood

Bell TX 76544

Property Number: 21200740087

Status: Excess

Reason: Utilized

Bldgs. 04902, 04905

Fort Hood

Bell TX 76544

Property Number: 21200740088

Status: Excess

Reason: Utilized

Bldgs. 04914, 04915, 04916

Fort Hood

Bell TX 76544

Property Number: 21200740089

Status: Excess

Reason: Utilized

Bldg. 20102

Fort Hood

Bell TX 76544

Property Number: 21200740091

Status: Excess

Reason: Utilized

Bldg. 20118

Fort Hood

Bell TX 76544

Property Number: 21200740092

Status: Excess

Reason: Utilized

Bldg. 29027

Fort Hood

Bell TX 76544

Property Number: 21200740093

Status: Excess

Reason: Utilized

Bldg. 56017

Fort Hood

Bell TX 76544

Property Number: 21200740094

Status: Excess

Reason: Utilized

Bldg. 56202

Fort Hood

Bell TX 76544

Property Number: 21200740095

Status: Excess

Reason: Utilized

Bldg. 56224

Fort Hood

Bell TX 76544

Property Number: 21200740096

Status: Excess

Reason: Utilized

Bldg. 56305

Fort Hood

Bell TX 76544

Property Number: 21200740097

Status: Excess

Reason: Utilized

Bldg. 56311

Fort Hood

Bell TX 76544

Property Number: 21200740098

Status: Excess

Reason: Utilized

Bldg. 56327

Fort Hood

Bell TX 76544

Property Number: 21200740099

Status: Excess

Reason: Utilized

Bldg. 56329

Fort Hood

Bell TX 76544

Property Number: 21200740100

Status: Excess

Reason: Utilized

9 Bldgs.

Fort Hood

Bell TX 76544

Property Number: 21200740101

Status: Excess

Reason: Utilized

Bldg. 92043

Fort Hood

Bell TX 76544

Property Number: 21200740102

Status: Excess

Reason: Utilized

Bldg. 92072

Fort Hood

Bell TX 76544

Property Number: 21200740103

Status: Excess

Reason: Utilized

Bldg. 92083

Fort Hood

Bell TX 76544

Property Number: 21200740104

Status: Excess

Reason: Utilized

Bldgs. 04213, 04227

Fort Hood

Bell TX 76544

Property Number: 21200740189

Status: Excess

Reason: Utilized

Bldg. 4404

Fort Hood

Bell TX 76544

Property Number: 21200740190

Status: Excess

Reason: Utilized

Bldg. 56607

Fort Hood

Bell TX 76544

Property Number: 21200740191

Status: Excess

Reason: Utilized

Bldg. 91041

Fort Hood

Bell TX 76544

Property Number: 21200740192

Status: Excess

Reason: Utilized

5 Bldgs.

Fort Hood

93010, 93011, 93012, 93014

Bell TX 76544

Property Number: 21200740193

Status: Excess

Reason: Utilized

Bldg. 94031

Fort Hood

Bell TX 76544

Property Number: 21200740194

Status: Excess

Reason: Utilized

Virginia

Building

Bldg. T2827

Fort Pickett

Blackstone Co: Nottoway VA 23824

Property Number: 21200320172

Status: Unutilized

Reason: Occupied

Bldg. T2841

Fort Pickett

Blackstone Co: Nottoway VA 23824

Property Number: 21200320173

Status: Unutilized

Reason: Occupied

Bldg. 01014

Fort Story

Ft. Story VA 23459

Property Number: 21200720067

Status: Unutilized

Reason: Occupied

Bldg. 01063

Fort Story

Ft. Story VA 23459

Property Number: 21200720072

Status: Unutilized

Reason: Occupied

Bldg. 00215

Fort Eustis

Ft. Eustis VA 23604

Property Number: 21200720073

Status: Unutilized

Reason: Occupied

4 Bldgs.

Fort Eustis

01514, 01523, 01528, 01529

Ft. Eustis VA 23604

Property Number: 21200720074

Status: Unutilized

Reason: Occupied

4 Bldgs.

Fort Eustis

01534, 01542, 01549, 01557

Ft. Eustis VA 23604

Property Number: 21200720075

Status: Unutilized

Reason: Occupied

Bldgs. 01707, 01719

Fort Eustis

Ft. Eustis VA 23604

Property Number: 21200720077

Status: Unutilized

Reason: Occupied

Bldg. 01720

Fort Eustis

Ft. Eustis VA 23604

Property Number: 21200720078

Status: Unutilized

Reason: Occupied

Bldgs. 01721, 01725

Fort Eustis

Ft. Eustis VA 23604

Property Number: 21200720079

Status: Unutilized

Reason: Occupied

Bldgs. 01726, 01735, 01736

Fort Eustis

Ft. Eustis VA 23604

Property Number: 21200720080

Status: Unutilized

Reason: Occupied

Bldgs. 01734, 01745, 01747

Fort Eustis

Ft. Eustis VA 23604

Property Number: 21200720081

Status: Unutilized

Reason: Occupied

Bldg. 01741

Fort Eustis

Ft. Eustis VA 23604

Property Number: 21200720082

Status: Unutilized

Reason: Occupied

Bldg. 02720

Fort Eustis

Ft. Eustis VA 23604

Property Number: 21200720083

Status: Unutilized

Reason: Occupied

Washington

Building

Bldg. 05904

Fort Lewis

Ft. Lewis Co: Pierce WA 98433-9500

Property Number: 21200240092

Status: Excess

Reason: Mission use

COE

Illinois

Building

Bldg. 7

Ohio River Locks No. 53

Grand Chain Co: Pulaski IL 62941-9801

Property Number: 31199010001

Status: Unutilized

Reason: Project integrity and security; safety liability

Bldg. 6

Ohio River Locks No. 53

Grand Chain Co: Pulaski IL 62941-9801

Property Number: 31199010002

Status: Unutilized

Reason: Project integrity and security; safety liability

Bldg. 5

Ohio River Locks No. 53

Grand Chain Co: Pulaski IL 62941-9801

Property Number: 31199010003

Status: Unutilized

Reason: Project integrity and security; safety liability

Bldg. 4

Ohio River Locks No. 53

Grand Chain Co: Pulaski IL 62941-9801

Property Number: 31199010004

Status: Unutilized

Reason: Project integrity and security; safety liability

Bldg. 3

Ohio River Locks No. 53

Grand Chain Co: Pulaski IL 62941-9801

Property Number: 31199010005

Status: Unutilized

Reason: Project integrity and security; safety liability

Bldg. 2

Ohio River Locks No. 53

Grand Chain Co: Pulaski IL 62941-9801

Property Number: 31199010006

Status: Unutilized

Reason: Project integrity and security; safety liability

Bldg. 1

Ohio River Locks No. 53

Grand Chain Co: Pulaski IL 62941-9801

Property Number: 31199010007

Status: Unutilized

Reason: Project integrity and security; safety liability

Ohio

Building

Bldg.—Berlin Lake

7400 Bedell Road

Berlin Center Co: Mahoning OH 44401-9797

Property Number: 31199640001

Status: Unutilized

Reason: Utilized as construction office

Pennsylvania

Building

Tract 403A

Grays Landing Lock Project

Greensboro Co: Greene PA 15338

Property Number: 31199430021

Status: Unutilized

Reason: To be transferred to Borough

Tract 403B

Grays Landing Lock Project

Greensboro Co: Greene PA 15338

Property Number: 31199430022

Status: Unutilized

Reason: To be transferred to Borough

Tract 403C

Grays Landing Lock Project

Greensboro Co: Greene PA 15338

Property Number: 31199430023

Status: Unutilized

Reason: To be transferred to Borough

Land

East Branch Clarion River Lake

Wilcox Co: Elk PA

Property Number: 31199011012

Status: Underutilized

Reason: Location near damsite

Dashields Locks and Dam

(Glenwillard, PA)

Crescent Twp. Co: Allegheny PA 15046-0475

Property Number: 31199210009

Status: Unutilized

Reason: Leased to Township

GSA

Alaska

Building

18 Fuel Storage Tanks

Point Barrow Long Range

Radar Site

Barrow AK 99723

Property Number: 54200930009

Status: Excess

GSA Number: 9-D-AK-824

Reason: Advertised for sale

Salmonberry Qtrs.

157 Salmonberry

Bethel AK 99559

Property Number: 54200940001

Status: Excess

GSA Number: 9-U-AK-825

Reason: Expression of interest

Arizona

Land

Parking Lot

322 n 2nd Ave.

Phoenix AZ 85003

Property Number: 54200740007

Status: Surplus

GSA Number: AZ-6293-1

Reason: Expression of interest

Salt River Project

Pecos/Alma School Road

#USBR-08-020

Chander AZ 85225

Property Number: 54200920001

Status: Surplus

GSA Number: 9-I-AZ-0850

Reason: Expression of interest

Arkansas

Building

Job Corps Center

2020 Vance St.

Little Rock AR 72206

Property Number: 54200920003

Status: Surplus

GSA Number: 7-L-AR-0573

Reason: Expression of interest

California

Building

Defense Fuel Support Pt.

Estero Bay Facility

Morro Bay CA 93442

Property Number: 54200810001

Status: Surplus

GSA Number: 9-N-CA-1606

Reason: Sale in progress

Boyle Heights SSA Bldg.

N. Breed St.

Los Angeles CA 90033

Property Number: 54200840010

Status: Surplus

GSA Number: 9-G-CA-1676

Reason: Conveyance pending

Land

Tract 1607

Lake Sonoma

Rockpile Rd.

Geyserville CA 85746

Property Number: 54200840011

Status: Surplus

GSA Number: 9-GR-CA-1504

Reason: Expression of interest

Quincy Scaling Station

1495 E. Main St.

Quincy CA 95971

Property Number: 54200930004

Status: Surplus

GSA Number: 9-A-CA-1679-1

Reason: Expression of interest

Connecticut

Land

MYQ Outer Marker Facility

Enfield CT 06082

Property Number: 54200920004

Status: Surplus

GSA Number: 1-U-CT-0561-1A

Reason: Expression of interest

Indiana

Building

Radio Tower

Cannelton Locks & Dam

Perry IN

Property Number: 54200830020

Status: Excess

GSA Number: 1-D-IN-569E

Reason: Expression of interest

John A. Bushemi USARC

3510 W 15th Ave

Gary IN 46404

Property Number: 54200830027

Status: Excess

GSA Number: 1-D-IN-0602

Reason: Expression of interest

Iowa

Building

U.S. Army Reserve

620 West 5th St.

Garner IA 50438

Property Number: 54200920017

Status: Excess

GSA Number: 7-D-IA-0510

Reason: Expression of interest

Louisiana

Land

Raceland Radio Tower

State 652

Raceland LA

Property Number: 54200930005

Status: Surplus

GSA Number: 7-D-LA-573

Reason: Advertised for sale

Maine

Building

Border Patrol Station

Rt 1A

Van Buren ME 46278

Property Number: 54200930015

Status: Excess

GSA Number: 1-X-ME-0689

Reason: Expression of interest

Maryland

Building

Federal Office Building

7550 Wisconsin Ave.

Bethesda MD 20814

Property Number: 54200920007

Status: Surplus

GSA Number: GMR-1101-1

Reason: Expression of interest

Massachusetts

Land

FAA Site

Massasoit Bridge Rd.

Nantucket MA 02554

Property Number: 54200830026

Status: Surplus

GSA Number: MA-0895

Reason: Expression of interest

FAA Locator Antenna LOM

Coleman Road

Southhampton MA 01073

Property Number: 54200920005

Status: Excess

GSA Number: MA-0913-AA

Reason: Conveyance pending

Michigan

Building

Social Security Bldg.

929 Stevens Road

Flint MI 48503

Property Number: 54200720020

Status: Excess

GSA Number: 1-G-MI-822

Reason: Expression of interest

Trenton Border Patrol Station

23100 West Road

Brownstown MI 48183

Property Number: 54200910003

Status: Excess

GSA Number: 1-X-MI-828-1

Reason: Expression of interest

Land

Former Elf Comm. Facility

3041 County Road

Republic MI 49879

Property Number: 54200840012

Status: Excess

GSA Number: 1-N-MI-0827

Reason: Conveyance pending

Missouri

Building

Federal Bldg/Courthouse

339 Broadway St.

Cape Girardeau MO 63701

Property Number: 54200840013

Status: Excess

GSA Number: 7-G-MO-0673

Reason: Expression of interest

Montana

Building

Raymond MT Property

1559 Hwy 16 North

Raymond MT 59256

Property Number: 54200920019

Status: Surplus

GSA Number: 7-X-MT-630

Reason: Advertised for sale

Nebraska

Building

Environmental Chemistry

Branch Laboratory

420 South 18th St.

Omaha NE 68102

Property Number: 54200810010

Status: Excess

GSA Number: 7-D-NE-532

Reason: Expression of interest

New Hampshire

Building

Federal Building

719 Main St.

Parcel ID: 424-124-78

Laconia NH 03246

Property Number: 54200920006

Status: Excess

GSA Number: 1-G-NH-0503

Reason: Expression of interest

New Jersey

Building

Camp Petricktown Sup. Facility

US Route 130

Pedricktown NJ 08067

Property Number: 54200740005

Status: Excess

GSA Number: 1-D-NJ-0662

Reason: Expression of interest

New York

Building

Fleet Mgmt. Center

5—32nd Street

Brooklyn NY 11232

Property Number: 54200620015

Status: Surplus

GSA Number: 1-G-NY-0872B

Reason: Conveyance pending

North Dakota

Building

North House

10951 County Road

Hannah Co: Cavalier ND 58239

Property Number: 54200720008

Status: Surplus

GSA Number: 7-X-ND-0515-1A

Reason: Advertised for sale

South House

10949 County Road

Hannah Co: Cavalier ND 58239

Property Number: 54200720009

Status: Surplus

GSA Number: 7-X-ND-0515-1B

Reason: Advertised for sale

North House

Highway 40

Noonan Co: Divide ND 58765

Property Number: 54200720010

Status: Surplus

GSA Number: 7-X-ND-0517-1A

Reason: Advertised for sale

South House

Highway 40

Noonan Co: Divide ND 58765

Property Number: 54200720011

Status: Surplus

GSA Number: 7-X-ND-0517-1B

Reason: Advertised for sale

North House

Rt. 1, Box 66

Sarles Co: Cavalier ND 58372

Property Number: 54200720012

Status: Surplus

GSA Number: 7-X-ND-0516-1B

Reason: Advertised for sale

South House

Rt. 1, Box 67

Sarles Co: Cavalier ND 58372

Property Number: 54200720013

Status: Surplus

GSA Number: 7-X-ND-0516-1A

Reason:Advertised for sale

House #1

10925 Hwy 28

Sherwood Co: Renville ND 58782

Property Number: 54200720014

Status: Surplus

GSA Number: 7-X-ND-0518-1B

Reason: Advertised for sale

House #2

10927 Hwy 28

Sherwood Co: Renville ND 58782

Property Number: 54200720015

Status: Surplus

GSA Number: 7-X-ND-0518-1A

Reason: Advertised for sale

North House

10913 Hwy 83

Westhope Co: Bottineau ND 58793

Property Number: 54200720016

Status: Surplus

GSA Number: 7-X-ND-0519-1B

Reason: Advertised for sale

South House

10909 Hwy 83

Westhope Co: Bottineau ND 58793

Property Number: 54200720017

Status: Surplus

GSA Number: 7-X-ND-0519-1A

Reason: Advertised for sale

Ohio

Building

NIKE Site Cd-46

Felicity OH

Property Number: 31200740015

Status: Excess

GSA Number: 1-D-OH-0832

Reason: Expression of interest

PFC Joe R. Hastings

Army Reserve Center

3120 Parkway Dr.

Canton OH 44708

Property Number: 54200840008

Status: Excess

GSA Number: 1-D-OH-835

Reason: Expression of interest

Oregon

Building

3 Bldgs/Land

OTHR-B Radar

Cty Rd 514

Christmas Valley OR 97641

Property Number: 54200840003

Status: Excess

GSA Number: 9-D-OR-0768

Reason: Expression of interest

U.S. Customs House

220 NW 8th Ave.

Portland OR

Property Number: 54200840004

Status: Excess

GSA Number: 9-D-OR-0733

Reason: Expression of interest

3 Bldgs.

Fremont-Winema

National Forests

Lakeview OR 97630

Property Number: 54200930013

Status: Excess

GSA Number: 9-A-OR-0779-AA

Reason: Advertised for sale

Land

20 acres

Cow Hollow Park

Nyssa OR 97913

Property Number: 54200820007

Status: Excess

GSA Number: 9-I-OR-769

Reason: Expression of interest

Pennsylvania

Land

Approx. 16.88

271 Sterrettania Rd.

Erie PA 16506

Property Number: 54200820011

Status: Surplus

GSA Number: 4-D-PA-0810

Reason: Advertised for sale

Rhode Island

Building

Former SSA Bldg.

Broad & Exchange Streets

Pawtucket RI

Property Number: 54200920008

Status: Excess

GSA Number: 1-G-RI-0518

Reason: Advertised for sale

Tennessee

Building

NOAA Admin. Bldg.

456 S. Illinois Ave.

Oak Ridge TN 38730

Property Number: 54200920015

Status: Excess

GSA Number: 4-B-TN-0664-AA

Reason: Federal interest

Texas

Building

Bldgs. 5, 6, 7

Federal Center

501 West Felix Street

Ft. Worth Co: Tarrant TX 76115

Property Number: 54200640002

Status: Excess

GSA Number: 7-G-TX-0767-3

Reason: Advertised for sale

Land

FAA Outer Marker 18 R/L VYN

1420 Lakeside Pkwy

Flower Mound TX 75028

Property Number: 54200820017

Status: Surplus

GSA Number: 7-U-TX-1090

Reason: Expression of interest

Bee Cave Natl Guard Property

408 St. Stephens School Rd

Austin TX 78746

Property Number: 54200930007

Status: Surplus

GSA Number: 7-D-TX-1108

Reason: Expression of interest

Utah

Building

Portion/Clearfield Fed. Center

Clearfield UT 84016

Property Number: 54200930003

Status: Excess

GSA Number: 7-G-UT-414-4

Reason: Expression of interest

West Virginia

Building

Naval Reserve Center

841 Jackson Ave.

Huntington WV 25704

Property Number: 54200930014

Status: Excess

GSA Number: 4-N-WV-0555

Reason: Expression of interest

Land

6 Tracts

Matewan WV

Property Number: 54200930008

Status: Excess

GSA Number: 4-D-WV-0556-1

Reason: Expression of interest

NAVY

Hawaii

Building

Bldg. 2652

Navy Aloha Center

Pearl Harbor HI 96860

Property Number: 77200710039

Status: Underutilized

Reason: In use

Land

6 Parcels

Naval Station

Pearl Harbor HI 96818

Property Number: 77200840012

Status: Unutilized

Reason: In use

Portion of Lot 36-D/69-B

Navy Region

Pearl Harbor HI 96860

Property Number: 77200940011

Status: Unutilized

Reason: Leased

VA

Iowa

Land

38 acres

VA Medical Center

1515 West Pleasant St.

Knoxville Co: Marion IA 50138

Property Number: 97199740001

Status: Unutilized

Reason: Enhanced-Use Legislation potential

Michigan

Land

VA Medical Center

5500 Armstrong Road

Battle Creek Co: Calhoun MI 49016

Property Number: 97199010015

Status: Underutilized

Reason: Being used for patient and program activities

Montana

Building

VA MT Healthcare

210 S. Winchester

Miles City Co: Custer MT 59301

Property Number: 97200030001

Status: Underutilized

Reason: Transfer to Custer County

Ohio

Building

Bldg. 116

VA Medical Center

Dayton Co: Montgomery OH 45428

Property Number: 97199920002

Status: Unutilized

Reason: Preexisting agreement

Pennsylvania

Land

VA Medical Center

New Castle Road

Butler Co: Butler PA 16001

Property Number: 97199010016

Status: Underutilized

Reason: Used as natural drainage for facility property

Land No. 645

VA. Medical Center

Highland Drive

Pittsburgh Co: Allegheny PA 15206

Property Number: 97199010080

Status: Unutilized

Reason: Property is essential to security and safety of patients

Land—34.16 acres

VA Medical Center

1400 Black Horse Hill Road

Coatesville Co: Chester PA 19320

Property Number: 97199340001

Status: Underutilized

Reason: Needed for mission related functions

Wisconsin

Building

Bldg. 8

VA Medical Center

County Highway E

Tomah Co: Monroe WI 54660

Property Number: 97199010056

Status: Underutilized

Reason: Unsafe conditions

Bldg. 2

VA Medical Center

5000 West National Ave.

Milwaukee WI 53295

Property Number: 97199830002

Status: Underutilized

Reason: Subject of leasing negotiations

[FR Doc. 2010-2822 Filed 2-11-10; 8:45 am]

BILLING CODE 4210-67-P